DEPARTMENT OF EDUCATION

[Docket ID ED-2013-OII-0146]

RIN 1894-AA04

Secretary's Final Supplemental Priorities and Definitions for Discretionary Grant Programs

AGENCY: Department of Education.

ACTION: Final priorities and definitions.

SUMMARY: To support a comprehensive education agenda, the Secretary of Education establishes 15 priorities and related definitions for use in any appropriate discretionary grant program for fiscal year (FY) 2015 and future years. These priorities and definitions replace the supplemental priorities for discretionary grant programs that were published in 2010 and corrected in 2011. These priorities reflect the lessons learned from implementing discretionary grant programs, as well as our current policy objectives and emerging needs in education.

DATES: Effective Date: These supplemental priorities and definitions are effective January 9, 2015.

FOR FURTHER INFORMATION CONTACT: Allison Moss, U.S. Department of Education, 400 Maryland Avenue SW., Room 4W319, Washington, DC 20202. Telephone: (202) 205-7726 or by email: allison.moss@ed.gov.

If you use a telecommunications device for the deaf (TDD) or a text telephone (TTY), call the Federal Relay Service (FRS), toll free, at 1-800-877-8339.

SUPPLEMENTARY INFORMATION:

Executive Summary

Purpose of This Regulatory Action: The Secretary has outlined a comprehensive education agenda that includes support for early learning and development programs that prepare children to succeed in school; elementary and secondary education programs that prepare students to succeed in college, career, and life; and postsecondary programs that prepare students to be competitive in the workforce. These final priorities and definitions may be used across the Department of Education's (the Department) discretionary grant programs to further the Department's mission to promote Student Achievement ¹ and global competitiveness.

¹ Defined terms are used throughout this document and are indicated by capitalization.

Summary of the Major Provisions of This Regulatory Action: This regulatory action announces 15 supplemental priorities and relevant definitions. Each major provision is discussed in the Public Comment section of this document.

Program Authority: 20 U.S.C. 1221e-3, 3474.

We published a notice of proposed priorities and definitions (NPP) in the Federal Register on June 24, 2014 (79 FR 35736). That document contained background information and our reasons for proposing the particular priorities and definitions.

Public Comment: In response to our invitation in the NPP, more than 1,600 parties submitted comments on the proposed priorities and definitions.

We group major issues according to subject. Generally, we do not address technical and other minor changes.

Analysis of Comments and Changes: An analysis of the comments and any changes in the priorities and definitions since publication of the notice of proposed priorities and definitions follows.

General

Comment: Over 1,000 commenters urged the Department to include in this notice of final priorities (NFP) a priority on a specific content area in education. Many of these commenters expressed support for a new priority focused on history and civic learning, but several commenters also wrote in support of the arts, foreign languages, geography, economics, and social studies. These commenters, in general, stated that it is inappropriate to include a priority that promotes science, technology, engineering, and mathematics (STEM) education without focusing on other educational areas such as history, civic learning, and social studies. One commenter suggested that if a new priority focused on such subjects was not possible, we amend all of the 15 proposed priorities to require that applicants demonstrate knowledge of peoples, cultures, and histories within that applicant's region.

Discussion: We appreciate the commenters' concern that these priorities do not highlight content areas equally. While we do include Priority 7, which promotes STEM education and access to rigorous coursework in those subjects, but not priorities for other content areas, we clearly discuss our reasoning for focusing on STEM learning in the background section for Priority 7 in the NPP.

Most of the priorities, as written, could be used to support any type of content area or classroom. For example, an applicant proposing a project designed to address Priority 2—Influencing the Development of Non-Cognitive Factors could do so using a strategy that includes creative arts expression. In addition, under Priority 9—Improving Teacher Effectiveness and Promoting Equitable Access to Effective Teachers, projects that recruit, select, develop, support, and retain effective teachers could be designed with the specific needs of a history, social studies, foreign language, or civic education teacher in mind. As such, we do not think specific priorities in the recommended content areas are necessary.

We appreciate the commenter's suggestion that, if inclusion of a priority on history and civic learning is not possible, we change all of our priorities to ensure that applicants approach their proposed projects with the full context of the communities they propose to serve in mind. We agree that, to implement projects successfully, grant recipients should consider the history and characteristics of the communities they serve. However, applicants already have adequate incentives to demonstrate that they understand the community they intend to serve through their responses to the selection criteria used by the Department in its discretionary grant competitions to solicit information from applicants, such as how the proposed project would work, why the proposed project is necessary, and if the applicant has the necessary resources and experience to successfully implement the proposed project. In addition to program-specific selection criteria, general selection criteria are available in 34 CFR 75.210 for the Department to use, when appropriate, and the Department can develop selection criteria under 34 CFR 75.209 for use in any discretionary grant program. Including such a focus in each priority is therefore unnecessary.

Changes: None.

Comment: A few commenters asked that the Department include priorities on additional general topics. One commenter asked the Department to prioritize secondary and postsecondary transitions. Another commenter requested that we prioritize emerging fields of study that are important to national security and global competitiveness, such as computer science. A third commenter asked that we include a priority that would support school personnel who are not teachers or principals, but who are still critical to student success.

Discussion: We agree with the commenters that transitions, national security and global competitiveness, and school support staff are important issues that merit attention. However, we think that these topics are addressed in the final priorities.

For example, we think that smooth transitions from secondary to postsecondary education could be part of a project under Priority 8, which focuses on implementation of internationally benchmarked college- and career-ready standards and assessments. In addition, a program using subpart (c) of Priority 5—Improving Postsecondary Access, Affordability, and Completion would seek projects that are designed to increase the number and proportion of High-need Students who are prepared to enroll in and complete college, other postsecondary education, or other career and technical education, thus improving transitions to postsecondary education.

These final priorities reflect a comprehensive education agenda that supports projects that improve student outcomes and prepare students for success in their careers and in life. Improving the education of the Nation's students would have the ancillary effect of improved national security and global competitiveness. Further, we expect that use of Priority 7 to promote STEM education and improve Student Achievement in these areas will spur technological innovation, creation, and study across the Nation. The commenter references computer science as a particularly important field of study, and we note that computer science falls clearly within the scope of the STEM fields addressed in Priority 7.

Finally, we agree with the commenter that school support staff, in addition to teachers and principals, can play integral roles in improving student academic outcomes. We think that projects that are designed to support such staff could be proposed under several priorities, including Priority 2—Influencing the Development of Non-Cognitive Factors, Priority 4—Supporting High-Need Students, Priority 13—Improving School Climate, Behavioral Supports, and Correctional Education, and Priority 14—Improving Parent, Family, and Community Engagement

Changes: None.

Comment: Some commenters requested a separate priority focusing on partnerships, including school and community partnerships, and support for intermediaries. One commenter proposed adding a priority on utilizing the collective impact of such partnerships, including subparts on implementing a shared community vision, integrating professional expertise and data to make decisions, creating networks of cross-sector practitioners, and building civic infrastructure through committed resources. Another commenter recommended a priority that will support projects that leverage national service initiatives.

Discussion: We agree that partnerships, whether they are school and community partnerships or partnerships with other intermediaries, provide opportunities to leverage resources to either increase a project's effectiveness or its ability to reach more students. However, we do not agree with the recommendation of a priority that focuses solely on the establishment of such partnerships, and note that applicants could form partnerships to address any of the priorities proposed in the NPP.

It is important to note that the Department may use factors from the general selection criteria in 34 CFR 75.210 and criteria developed under 34 CFR 75.209 to encourage the types of efforts described by the commenters. For example, 34 CFR 75.210(c) (Quality of the project design) includes factors that ask applicants to describe the extent to which the proposed project is supported by evidence and will integrate with, or build on, similar or related efforts, using existing funding streams from other programs or policies supported by community, State, and Federal resources. The Department has discretion in choosing whether to use the selection criteria and, if so, which selection criteria and factors are most appropriate for a given competition.

Changes: None.

Comments: Several commenters provided suggestions to strengthen the background sections for each priority included in the NPP.

Discussion: We appreciate the feedback we received on the background sections included in the NPP, which explain our rationale for each proposed priority. We do not include background sections for priorities in the NFP. Therefore, we are not making any changes in response to these comments.

Changes: None.

Comment: One commenter urged the Department to use the priorities and selection criteria related to building evidence of effectiveness in the Education Department General Administrative Regulations (EDGAR) in combination with these priorities.

Discussion: We appreciate the commenter's suggestion and note that this combination is already possible. For a discretionary grant program, the Department already may use the evidence-related competitive preference priorities in 34 CFR 75.266 (What procedures does the Secretary use if the Secretary decides to give special consideration to applications supported by strong or moderate evidence of effectiveness?) or selection criteria in 34 CFR 75.210 (General selection criteria) or developed under 34 CFR 75.209 so long as the priority or criteria are consistent with the program's authorizing statute and purpose.

Changes: None.

Comment: A few commenters were concerned that we are including too many priorities, and that it would be difficult to determine which of the priorities are most important. One commenter noted that it is confusing to include so many supplemental priorities in addition to the selection criteria and factors available in 34 CFR 75.210, and that so many emphases create unrest in the education field. Another commenter stated that all 15 priorities are not suitable for some discretionary grant programs, and may add unnecessary burden for applicants. In the same vein, another commenter strongly encouraged us to consider funding those programs using these priorities at levels appropriate for successful implementation of projects designed to address them.

Some commenters also suggested strategies to better organize the priorities. For example, one commenter suggested we group the priorities into broader categories.

Discussion: We appreciate the commenters' concerns and suggestions, and want to clarify the purpose of these supplemental priorities. These priorities are intended as options for the Department to use when announcing a discretionary grant program competition. For each grant program the Department may choose which, if any, of the priorities (or subparts) and definitions included in this NFP are appropriate for the competition with regard to feasibility and scope. The Department has the discretion to choose which priorities should be used in each competition, and how the priority would apply; for example, a priority may be used as an absolute priority, meaning that applicants that propose projects under that priority would need to address the priority to be eligible to receive funds. A priority could also be used as a competitive preference priority, meaning that applicants that propose projects addressing that priority could receive additional points for their applications, depending on how well they do so. Although we publish 15 priorities in this NFP, we will use only those priorities that are relevant to and appropriate for the particular program. Furthermore, the Department is not required to use any of these priorities for any particular program.

In addition, we think it is important to clarify how selection criteria are used in discretionary grant competitions as compared to absolute and competitive preference priorities. Selection criteria developed under 34 CFR 75.209 and general selection criteria from 34 CFR 75.210 may be used to focus applicants on how they would meet statutory or regulatory requirements of a program, and encourage applicants to describe how well they are positioned to implement their proposed projects. For example, 34 CFR 75.210(c) (Quality of the project design) asks applicants to describe the project's logic model, or theory of action. These factors are content neutral, and, if used, may help the Department to fund well-designed and thoughtful projects that are proposed by capable applicants.

Conversely, absolute, competitive preference, and invitational priorities are used in discretionary grant competitions to guide applicants to propose projects that respond to a specific need, such as increasing completion rates for High-need Students at the postsecondary level, or improving family engagement efforts in schools. Thus, the priorities used in discretionary grant competitions instruct applicants in what to propose in their applications, while the Department uses selection criteria to assess how well the applicants could implement their proposed projects within the context of the priorities, in addition to the underlying statute and any applicable rules or regulations. Finally, we do not think that grouping priorities is necessary since they are designed so that each discretionary grant program may use one or a combination of several priorities in its competition, as appropriate; and further grouping could limit flexibility in using the priorities.

Changes: None.

Comment: One commenter suggested that, in establishing the Supplemental Priorities, the Department is inappropriately bypassing the legislative process, and providing itself with total discretion over how each priority will be used in discretionary grant programs.

Discussion: We appreciate the commenter's concerns; however, the Department is not bypassing the legislative process. Section 410 of the General Education Provisions Act (GEPA) authorizes the Secretary “to make, promulgate, issue, rescind, and amend rules and regulations governing the manner of operation of, and governing the applicable programs administered by, the Department.” (20 U.S.C. 1221e-3.) When establishing rules—such as these priorities—the Department is required to obtain and consider public comment. (20 U.S.C. 1232(d); see also 5 U.S.C. 551, et seq.) Establishing these priorities through rulemaking at one time simply enables the Department to avoid the expenditure of resources otherwise needed to conduct a separate rulemaking for each grant competition for which it would want to apply one or more of the priorities. The statutory provisions cited above authorize the establishment of these priorities.

Second, the commenter is correct that the Department will have discretion to decide which of the priorities, if any, are applicable to a particular discretionary grant competition. However, its decision to apply one or more to a particular competition, and to do so as absolute, competitive preference, or invitational priorities, must be consistent with the statute authorizing the program for which the Department has announced that competition and the statutory provisions identified in the preceding paragraph. Furthermore, we note that use of these priorities in any particular grant competition is not mandatory.

Finally, to effectively carry out our responsibilities to award discretionary grant funds in a timely manner, our administrative regulations clearly delineate areas in which the Department may exercise discretion. This discretion includes, for example, selecting priorities from those established by Department regulations or statutory language, program regulations, or statutory provisions; deciding whether priorities should be absolute or competitive; and establishing selection criteria by which applications will be judged. (See, e.g., 34 CFR 75.105, 75.209, and 75.210.) Moreover, supplemental priorities that the Department may apply to its grant competitions have been available since October 11, 2006 (71 FR 60046).

Changes: None.

Comment: One commenter wrote that Priority 2—Influencing the Development of Non-Cognitive Factors and Priority 12—Promoting Diversity should be eliminated because they do not focus specifically on educational outcomes and may conflict with family values.

Discussion: We appreciate the commenter's concern, but are unclear on how Priorities 2 and 12 would affect “family values.” The commenter did not define “family values,” so we cannot be certain which particular values the commenter considers at risk. We also note that Priority 2 and Priority 12 include implicit references to academic outcomes: Projects designed to meet Priority 2 would need to improve some combination of student academic behaviors, academic mindset, perseverance, self-regulation, social and emotional skills, and approaches toward learning strategies, and projects designed to meet Priority 12 would need to prepare students for success in the workforce.

Changes: None.

Comments: Two commenters suggested several edits across each priority to better reflect afterschool and expanded learning programs.

Discussion: We thank the commenters for the suggestions, and agree that high-quality afterschool and expanded learning programs may be effective mechanisms for engaging students, and their families, in their academic lives. For this reason, we have modified some of the priorities to include a focus on programs such as these in addition to schools, thereby broadening the scope of those priorities to include afterschool, expanded learning, and other community-based programs.

Changes: In Priority 1—Improving Early Learning and Development Outcomes, Priority 14—Improving Parent, Family, and Community Engagement, and the definitions for Community Engagement and Parent and Family Engagement, we have included an emphasis on “programs” and “program staff” so that community-based programs could be supported through these priorities.

Comment: One commenter urged us to better support projects that are designed to increase academic outcomes for students in middle school.

Discussion: We agree that the middle grades are important to a student's overall academic outcomes. We note that projects designed to support student success in middle school could meet many of the priorities in this NFP; for example, a project designed to implement Personalized Learning approaches to ensure appropriate support and academic excellence could be targeted at students in the middle grades. We prioritize early learning and development and postsecondary access, affordability, and completion separately because projects designed to address these areas would largely fall outside the kindergarten-through-12th grade (K-12) sphere, or may seek to improve different outcomes that would require a different set of strategies.

Changes: None.

Comment: One commenter urged the Department to include a priority focused on school turnaround, similar to the priority included in the current Supplemental Priorities published in 2010 (75 FR 78485) and corrected and republished in 2011 (76 FR 27637) (2010 Supplemental Priorities). The commenter recognized that a few of the proposed priorities referenced teachers or principals who work in Lowest-performing Schools, but wished to see specific support for Priority Schools in our discretionary grant programs.

Discussion: In drafting the NPP, the Department considered lessons learned in implementing discretionary grant programs. One lesson we learned from our implementation of the 2010 Supplemental Priorities was that the priority focused on turning around Persistently-lowest Achieving Schools was not broadly applicable across our programs. We think that integrating such efforts into other priorities may allow us to use the discretionary grant programs to encourage turnaround initiatives in ways that better align with the programs' purposes. For that reason, we decided to approach supporting these schools differently by retaining a focus on students in schools that are in urgent need of support. As the commenter noted, we included in Priority 9—Improving Teacher Effectiveness and Promoting Equitable Access to Effective Teachers and Priority 10—Improving the Effectiveness of Principals references to Lowest-performing Schools. Students in these schools are also a focus of Priority 4—Supporting High-Need Students. Our definition of Lowest-performing Schools is designed to include struggling schools in all States, regardless of whether the State has received a flexibility waiver from the Department under the Elementary and Secondary Education Act of 1965, as amended (ESEA). We do not think that including a special priority for school turnaround is necessary in this NFP because the students and educators in these schools would be a focus of these other priorities.

Changes: None.

Comment: One commenter suggested that we include in the NFP several Federal coordination efforts, including joint ventures between the Department and the U.S. Department of Labor to create a cooperative grant application process, manage contracts, provide team-based technical assistance, and promote a particular mechanism for workforce program performance reporting.

Discussion: We appreciate the commenter's suggestions, but we cannot make the administrative and procedural changes the commenter suggested because the purpose of this NFP is to announce final priorities and definitions, based on our current policy agenda, for use in discretionary grant programs.

Changes: None.

Priority 1—Improving Early Learning and Development Outcomes

Comment: One commenter expressed general support for Priority 1 and suggested that we incorporate the concept of program leadership into the priority, noting that it is a critical factor in program success.

Discussion: We appreciate the commenter's support for this priority and agree that leadership is important to the success of any early learning and development program. We have revised subpart (b) of Priority 1 to emphasize that it includes administrators, which may include directors, supervisors, and other early learning and development program leaders.

Change: We have added “including administrators” to subpart (b) so that it now reads: “Improving the quality and effectiveness of the early learning workforce so that early childhood educators, including administrators, have the knowledge, skills, and abilities necessary to improve young children's health, social-emotional, and cognitive outcomes.”

Comment: Several commenters expressed support for mixed-delivery models discussed in Priority 1. Two commenters suggested we revise subpart (d) to include a focus on community-wide mixed-delivery systems.

Discussion: We appreciate the commenters' support for community-wide mixed-delivery models and agree that they are important. We have therefore revised subpart (d) to include a focus on community-based programs, which will allow discretionary grant programs to prioritize in competitions community-wide mixed-delivery models and other community-based strategies.

Changes: We have added “whether offered in schools or community-based settings” to subpart (d) so that it now reads: “Including preschool, whether offered in schools or community-based settings, as part of elementary education programs and systems in order to expand opportunities for preschool students and teachers.”

Comment: Several commenters stated that they appreciated the inclusion of the coordination and alignment between early learning and development systems and elementary education systems in subpart (c) of Priority 1. One commenter noted that, while vertical alignment between early learning and development and early elementary programs is highlighted in Priority 1, we should also focus on horizontal alignment with existing early childhood programs.

One commenter suggested that we clarify that early learning and development systems include early intervention. Three commenters suggested that we emphasize meaningful transition planning that includes parents and families. Another commenter asked that we emphasize knowledge and skills as a way to improve transitions from birth through third grade.

Discussion: We appreciate the commenters' support for subpart (c). While we do not define “early learning and development systems” or “early learning and development programs,” we mention early learning and development programs in subpart (a) of Priority 1, which supports projects that increase access to high-quality programs, particularly for Children with High Needs. Early learning and development programs may include early intervention. We do not think that it is necessary to include a specific reference to “knowledge and skills as a way to improve transitions from birth through third grade” because the priority does not list the specific strategies that should be used to improve the coordination and alignment between early learning and development systems and elementary education systems, but rather allows applicants the flexibility to propose how they would improve this coordination and alignment. We also note that Priority 1 asks that all projects be designed to improve one or more outcomes across the Essential Domains of School Readiness, which include several examples of knowledge and skills.

We agree with the commenter's suggestion that it would be helpful to include in Priority 1 a focus on transition planning, particularly for parents and families as their children transition into kindergarten. We also appreciate the commenters' suggestions on improving coordination among early learning and development programs and engaging parents in the transition process.

Changes: We have changed the language in subpart (c) so that it now reads: “Improving the coordination and alignment among early learning and development systems and between such systems and elementary education systems, including coordination and alignment in engaging and supporting families and improving transitions for children along the birth-through-third-grade continuum, in accordance with applicable privacy laws.”

Comment: One commenter expressed strong support for State flexibility to establish multiple ways to improve the quality and effectiveness of the early learning workforce.

Discussion: We appreciate the commenter's support for State flexibility. We believe the priority allows flexibility for applicants to focus proposed projects on improving the quality and effectiveness of their early learning workforce in accordance with their States' laws and approaches.

Changes: None.

Comment: Several commenters suggested that we define terms such as “preschool,” “early learning provider,” and “early learning programs.” One commenter asked that “preschool” be defined as early learning from birth to age five. Other commenters requested that “early learning provider” and “early learning programs” be defined and used in a manner consistent with the Preschool Development and Expansion grants program. One commenter requested that we clarify that parent and family engagement and cultural and linguistic sensitivity are important elements of high-quality early learning.

Discussion: We appreciate the commenters' suggestions. We do not think it is appropriate to establish a formal definition for “preschool” because, while the term is generally understood to mean early education that takes place before kindergarten, each State may have different requirements. We note that the term “early learning provider” is not used in this NFP, nor is the term “early learning program.”

Changes: None.

Comment: One commenter asked that we clarify how assessment results will be used to determine if our efforts to align preschool with early elementary grades are working. The commenter also asserted that the assessments should be research-based.

Discussion: We appreciate the commenter's recommendations. While the focus of Priority 1 is not primarily on assessments, we think that there are several ways in which grantees could use assessments and their results to enhance the quality of their projects. For example, projects designed to address Priority 1 should improve early learning and development outcomes across one or more of the Essential Domains of School Readiness, which includes areas of language and literacy development, cognition, and general knowledge. We also note that any project funded by the Department must be evaluated in accordance with 34 CFR 75.590 (Evaluation by the grantee). We think that one way in which a grant recipient proposing a project designed to address Priority 1 could meet this evaluation requirement is by assessing students on the Essential Domains of School Readiness that are relevant to that project. As such, we do not think it is necessary to include a focus on research-based assessments in this NFP.

Changes: None.

Comment: One commenter expressed concerns regarding the examples provided in the background section of the NPP. Specifically, the commenter was concerned that an early learning provider that did not offer a full-day program, but that had improved early learning and development outcomes, would not meet the description of “high-quality early learning” provided in the background section.

Discussion: We note that the examples in the background section of the NPP were meant to clarify what we mean by “high-quality early learning” and are not binding. We do not define “high-quality” because early learning and development programs may cover a wide range of age groups from birth through kindergarten entry. Group size, ratios, and professional qualifications, for example, will differ depending on the age of the children served, and it is therefore difficult to set a “high-quality” standard that would be appropriate for all types of programs for children of different ages.

Changes: None.

Comment: One commenter asked that we emphasize the effects that stress and trauma may have on the development of the brain in Priority 1.

Discussion: We appreciate this suggestion from the commenter. We think that this concept could be supported already through subpart (b) of Priority 1, which references health, socio-emotional, and cognitive outcomes. In addition, we think that projects designed to meet Priority 2—Influencing the Development of Non-Cognitive Factors and Priority 13—Improving School Climate, Behavioral Supports, and Correctional Education could include elements of this suggestion.

Changes: None.

Comment: Two commenters suggested that we include a new subpart in Priority 1 focused on increasing the percentage of children who are able to read and perform mathematics at grade level by the end of third grade.

Discussion: We appreciate the commenters' suggestion but note that a change is unnecessary because, given our definition of Essential Domains of Schools Readiness, these types of projects would currently be covered by the introductory paragraph of the priority: “Projects that are designed to improve early learning and development outcomes across one or more of the Essential Domains of Schools Readiness.”

Changes: None.

Comment: One commenter noted that early learning should be an absolute priority in all discretionary grant competitions. The commenter also requested that we refer to “early learning and education” consistently throughout the NFP to emphasize our cradle-to-career focus.

Discussion: These priorities are intended as a menu of options for our discretionary grant programs. The Department may choose which, if any, of the priorities or subparts are appropriate for a particular program competition. If the Department chooses to use the supplemental priorities, it also has discretion to decide how the priorities should be used in the grant competitions. Furthermore, because some discretionary grant programs that may decide to use some of these priorities are statutorily required to serve only K-12 or postsecondary students (in other words, not early learning students or programs), it is not appropriate to require all programs using the Supplemental Priorities to include an absolute priority or focus on early learning.

In addition, we think that using the phrase “education” throughout the priorities is broad enough to include early learning and development. Unless explicitly stated otherwise, the priorities could be used in competitions that focus on early learning and development programs.

Changes: None.

Priority 2—Influencing the Development of Non-Cognitive Factors

Comment: Several commenters expressed support for this priority, and many of these commenters also recommended expanding it. Four commenters suggested including a focus on tools that appropriately measure the development of non-cognitive factors. One commenter advocated for the priority supporting the assessment, measurement, and design of high-quality instructional tools that provide for students' mastery of non-cognitive skills. Three commenters recommended that the priority include a focus on professional development for teachers or district and school personnel; and two commenters made similar recommendations about providing training for parents. One commenter noted the importance of teachers, parents, and students learning a “growth mindset” to recognize one's own control of his or her growth and achievement.

A number of commenters suggested that the Department use the priority to encourage the use of specific approaches, including arts education, physical education, expanded learning time, and afterschool or summer programs. Another commenter noted the importance of addressing non-cognitive factors for middle school students.

Discussion: Although we appreciate the commenters' recommendations for how this priority could be expanded, we want to clarify that the priority does not prohibit the projects described by the commenters so long as the projects are designed to improve students' mastery of non-cognitive skills and behaviors and enhance student motivation and engagement in learning. Applicants have the discretion to determine what approach or intervention will best address the priority and meet the needs of the targeted student population.

Finally, because any one of these Supplemental Priorities may be used in a variety of discretionary grant programs, we do not think it is appropriate to prescribe a specific approach to addressing this priority. As such, we decline to revise the priority in a manner that might limit its use.

Changes: None.

Comment: One commenter suggested adding the reduction of maladaptive behaviors that interfere with learning as an expected outcome of projects funded under this priority.

Discussion: This priority requires applicants to propose projects that would improve students' mastery of non-cognitive skills and behaviors and enhance student motivation and engagement in learning. These stated outcomes, which are specific to the priority, provide applicants with the discretion to develop performance measures that are appropriate to their specific contexts and relevant to their proposed projects. A performance measure for the reduction of maladaptive behaviors may be appropriate for a particular project or discretionary grant program, but may not be appropriate for all projects or discretionary grant programs that may use the priority. We do not think it is necessary to prescribe a performance measure that applicants may already use under the expected outcomes that are included in the priority.

Changes: None.

Comment: Two commenters discussed the meaning of “non-cognitive factors.” Specifically, one commenter suggested that the Department identify specific indicators of success in school settings, such as those indicators referenced in the Division for Early Childhood's recent publication on recommended practices in early intervention. Another commenter recommended the inclusion of the four academic mindsets that are discussed in the University of Chicago Consortium of Chicago School Research June 2012 publication (i.e., sense of belonging, implicit theories of ability, self-efficacy, and expectancy-value theory). The commenter noted that these mindsets help students identify their educational and social needs as well as intellectual and emotional development needs, which provides a critical connection between college readiness and college fit.

Discussion: Research on non-cognitive skills and behaviors is emerging. We recognize that the education field does not have a standard definition for non-cognitive factors, and we have not defined that term here. Rather, we provided examples of non-cognitive skills and behaviors in the priority. By using examples that reflect current research, we aim to provide a common understanding of our intent for the priority while also allowing applicants the flexibility to adjust as new research emerges.

Changes: None.

Comment: Five commenters expressed support for the priority, but requested that the Department change its title. One commenter noted that the behavior and processes that the Department includes in “non-cognitive factors” involve cognition and suggested the Department use the term “metacognitive learning skills” instead. Another commenter recommended using “foundational skills” because those skills are inherently embedded in cognitive processes. Three commenters offered “social and emotional skills,” “social and emotional competency,” or “social and intellectual habits” as alternative titles for the priority.

Discussion: We recognize and appreciate the concerns of the commenters and the potential risk of using a term that suggests that cognition is not involved in the process of developing the skills and behaviors covered under this priority. However, we also realize that “non-cognitive” is a term that is commonly used and understood in the education field and that broad consensus has not been reached on a new term that would replace it.

Changes: None.

Comment: One commenter applauded this priority, and encouraged the Department to consider the difference between beliefs and skills, the need for students to develop non-cognitive factors at both the classroom and cultural levels, and the importance of continuing funding for the practical application of researched interventions. Another commenter noted the importance of using empirical research on targeted non-cognitive interventions to spread the use of effective programs.

Discussion: Priority 2 could support projects that may address the issues raised by the commenters. We do not think that it is necessary to revise the priority to require research, because the Department has discretion to select factors from 34 CFR 75.210(c) (Quality of the project design) to encourage applicants to provide evidence or a reasonable hypothesis in support of their proposed projects. Under 34 CFR 75.266 (What procedures does the Secretary use if the Secretary decides to give special consideration to applications supported by strong or moderate evidence of effectiveness?), the Department has the discretion to provide incentives to applicants that propose projects based on rigorous evidence through the use of competitive preference or absolute priorities. Finally, the Department has the discretion to select factors from 34 CFR 75.210(h) (Quality of the project evaluation) to encourage applicants to design project evaluations that are appropriate for the areas of study and research goals for a particular program.

Changes: None.

Comment: One commenter urged the Department to revise the priority to clarify that projects must set high expectations for all students, including students with disabilities. Another commenter noted that it is particularly important for students with learning and attention issues to develop non-cognitive skills.

Discussion: We agree with the commenters that it is important to set high expectations for all students, including students with disabilities. This priority includes all students, and does not include language limiting its focus to a subset of students. As the language of the priority does not limit access for or, expectations of, a subset of students, we do not think a revision to the priority is necessary.

Changes: None.

Proposed Priority 3—Promoting Personalized Learning

Comment: One commenter stated that the Department's emphasis on Personalized Learning is misplaced and that we should remove Priority 3 from the NFP. Specifically, the commenter cautioned that tools developed outside of the classroom would be less effective at informing instruction than tools developed within the classroom through face-to-face interactions.

Discussion: We disagree with the underlying assumption of the comment that grant funding would result in projects using tools that were developed without consideration for the classroom context. Depending on the discretionary grant program, local educational agencies (LEAs), State educational agencies (SEAs), nonprofit organizations, and institutions of higher education (IHEs) may be applicants. Applicants are primarily responsible for deciding what tool or approach will be used and we do not think that Federal funding would cause applicants to propose using tools that are not relevant or useful for informing instruction.

Changes: None.

Comment: Several commenters expressed support for the priority, and some of these commenters also provided suggestions for expanding it. One commenter proposed adding a new subpart focusing on professional development. One commenter recommended that the Department add a focus that would support projects that propose to design and implement networks that support the technology and dynamic learning environments necessary for students to experience “anytime, anywhere” Personalized Learning. Another commenter expressed concern that the proposed priority did not require applicants to intentionally plan for scaling the use of technology to deliver personalized resources to students, and suggested that the Department require applicants addressing the priority to develop a sustainable plan for leveraging technology. Conversely, another commenter suggested that we clarify that applicants could propose projects that use Personalized Learning modalities other than technology.

A few commenters noted that the Department's 2010 National Educational Technology Plan identified universal design for learning (UDL) as a method for supporting all students' learning, and suggested revising the proposed priority to encourage projects that support Personalized Learning based on UDL principles. One commenter noted that Personalized Learning can be achieved through competency-based learning, and another commenter suggested that the priority support projects that use competency-based learning as a component of Personalized Learning with a requirement that students demonstrate a mastery of college- and career-ready standards.

Discussion: We appreciate the commenters' support of the priority and recommendations for how it might be expanded. Regarding the suggestion that we include a subpart on professional development for educators, we note that subpart (a) of this priority supports the provision of professional development on Personalized Learning and the use of data as part of a project implementing Personalized Learning approaches. We do not think it would be appropriate to fund a project that provides professional development only on Personalized Learning, without implementing the approaches for which the professional development is being provided.

Regarding the recommendation that this priority include a focus on designing and implementing networks, we point the commenter to subpart (a) of Priority 11—Leveraging Technology to Support Instructional Practice and Professional Development, because it supports the infrastructure that schools and districts need to increase students' and educators' access to high-quality digital tools. Although subpart (a) of Priority 11 specifically references access to high-speed Internet and devices, the priority, as proposed, would not preclude an applicant from also supporting the development of networks that support the technology and dynamic learning environments that are necessary for students to experience “anytime, anywhere” Personalized Learning. Because the purpose of this priority is to implement Personalized Learning approaches that may or may not require the use of technology, we decline to revise this priority.

We agree with the commenter that Personalized Learning can be achieved through learning modalities other than technology. For that reason, the definition of Personalized Learning requires tailoring the pace of learning and instructional approaches to the needs of individual learners, but does not require that tailoring to be done through the use of technology. Although technology is commonly used to implement Personalized Learning, other approaches may also be used to address subpart (a) of Priority 3.

We agree with the commenter that, if an applicant is using technology to implement or deliver Personalized Learning services or resources, the applicant should consider how it will sustain its use of technology. However, because an applicant may address the priority in a manner that does not rely on technology, it is not appropriate to require applicants to develop a sustainability plan for leveraging technology. In a program using this priority the Department could use selection criteria from 34 CFR 75.210(c) (Quality of the project design) to encourage applicants to address their sustainability needs as part of their proposed projects or develop selection criteria under 34 CFR 75.209 to achieve the same purpose.

The Department's 2010 National Educational Technology Plan ² discusses the importance of making learning experiences accessible and the use of UDL principles. Although the plan calls for the use of technology to empower Personalized Learning and provides examples of how to do it, we do not think that it is appropriate to prescribe a single approach or principle that all applicants must use when addressing this priority. We also note that Personalized Learning can be achieved through approaches other than competency-based learning. This priority does not prohibit an applicant from using the approach or principle that it determines to be most suitable for its project. As such, we decline to revise the priority to include explicit references to UDL or competency-based learning approaches.

² Available at: http://www.ed.gov/sites/default/files/netp2010.pdf.

Changes: None.

Comment: A few commenters suggested additional expected outcomes to be included in the priority. One commenter recommended that the Department emphasize that Personalized Learning should be used for developmental college reading and mathematics to reduce the number of students who need remedial coursework when they enter postsecondary programs. One commenter proposed adding increasing academic recovery as a required outcome for projects addressing the priority. Another commenter recommended including a focus on promoting knowledge and skills acquisition in subpart (a) of Priority 3. Similarly, another commenter requested that the adoption of social and emotional skills be added to subparts (a) and (b) of Priority 3.

Discussion: We do not want to limit or prescribe specific outcomes or performance measures that applicants could propose to use in their projects. The priority requires applicants to improve student academic outcomes and close academic opportunity or attainment gaps. These outcomes are broad and provide applicants the discretion to select and propose performance measures that are most appropriate for the students who are served by their projects. Priority 3 does not prohibit applicants from proposing performance measures for reducing the number of students who are participating in remedial coursework, increasing academic recovery, promoting skills and knowledge acquisition, or adopting social and emotional skills, so long as the proposed project is implementing Personalized Learning and is designed to improve student academic outcomes and close academic opportunity and attainment gaps.

Additionally, we do not want to restrict the use of the priority. If we were, for example, to revise the priority to require a focus on reducing the number of students who are participating in remedial coursework when they enter postsecondary education, we could not use the priority in discretionary grant programs that focus on early grades because it may not be possible to measure the success of the outcome during the project period.

Changes: None.

Comment: One commenter noted that more information and research is needed on Personalized Learning and stated that the priority should require applicants to conduct a rigorous evaluation and make the findings and lessons learned from their evaluations publicly available.

Discussion: The Department can select factors from 34 CFR 75.210(h) (Quality of the project evaluation) to encourage applicants to design project evaluations that are appropriate for the areas of study and research goals for a particular program. Because the Department may promote rigorous evaluations as part of a program's selection criteria, it is not necessary to also include those requirements in the Supplemental Priorities.

Changes: None.

Comment: One commenter agreed that Digital Credentials support Personalized Learning, but cautioned that they should not be used as the only approach.

Discussion: We agree that Digital Credentials support, but are not the only approach to, Personalized Learning. For this reason, we included subpart (a), which focuses broadly on implementing Personalized Learning approaches without identifying a specific approach. However, with more students participating in online courses, and using digital learning resources to achieve their academic goals, we think that it is appropriate to include the award of Digital Credentials that are aligned with college- and career-ready standards and based on Personalized Learning.

Changes: None.

Priority 4—Supporting High-Need Students

Comment: Several commenters expressed support for this priority, including the expanded focus that allows applicants to propose projects that are designed to improve academic outcomes or learning environments for students. However, a few commenters asked that the Department define “academic outcomes” and “learning environments.”

Many commenters also applauded the broader list of student groups that may be served under this priority. However, some commenters recommended that the Department include additional groups of students, such as students living in public housing, first-generation college students, adjudicated youth in residential sites, high-ability and gifted students, Native American students, Alaska native students, youth in alternative schools, and students who are served by schools that are highly segregated by race or ethnicity. One commenter suggested the Department distinguish between the different types of rural LEAs under the priority. Another commenter requested that the Department remove from Priority 4 the focus on students served by rural LEAs, or revise it to include students in both rural and urban LEAs.

Discussion: We appreciate the commenters' support for Priority 4. However, given the variety of programs in which the priority may be used, we do not think that it is appropriate to prescribe what would constitute an “academic outcome” or “learning environment.” Any definition would risk restricting the use of the priority.

Similarly, because one of the options for students who could be served under Priority 4 is High-need Students, defined broadly as students at risk of educational failure or otherwise in need of special assistance and support, it is not necessary to add most of the suggested groups to the list. However, upon review we think that it is appropriate to include a focus on students who are members of federally recognized Indian tribes in the list, as these tribes constitute distinct governmental entities with unique needs. We note that federally recognized Indian tribes include many Alaska native entities. We have made this change.

Regarding the recommendation that we remove the option to focus on students in Rural LEAs, or retain that focus but also include a focus on students in urban LEAs, we note that we include a specific focus on students who are served by rural LEAs because we acknowledge that the solutions to educational challenges may be different in rural communities than in urban and suburban communities and that there is a need for solutions that are unique to rural communities. For these reasons, we decline to remove the option or revise it to require a focus on students served by rural and urban LEAs.

Changes: We have revised Priority 4 so that it now includes “Students who are members of federally recognized Indian tribes” in the list of student subgroups that may be supported by projects addressing the priority.

Comment: One commenter requested that the Department define “disconnected youth” as used in Priority 4.

Discussion: We agree with the commenter and have added a definition of Disconnected Youth that is consistent with the Department's Performance Partnerships for Disconnected Youth Fact Sheet.³ We note that this definition will apply to each priority in which the term Disconnected Youth is used.

³ Available at: http://www.ed.gov/blog/wp-content/uploads/2014/03/2014-PPPs-Fact-Sheet.pdf.

Changes: We have defined Disconnected Youth to mean low-income individuals, ages 14-24, who are homeless, are in foster care, are involved in the justice system, or are not working or not enrolled in (or at risk of dropping out of) an educational institution.

Comment: One commenter expressed support for Priority 4, but noted that an effective method for improving outcomes for High-need Students is to increase salaries for teachers who work in urban LEAs where many students may live in poverty.

Discussion: We agree with the commenter that such methods may be effective, and include a subpart in Priority 9—Improving Teacher Effectiveness and Promoting Equitable Access to Effective Teachers that promotes equitable access to effective teachers for students from low-income families and minority students. An applicant could propose a project that provides incentives, through salary increases or other means, effective teachers to work in schools with high concentrations of such students.

Changes: None.

Priority 5—Increasing Postsecondary Access, Affordability, and Completion

Comment: Two commenters expressed concerns regarding the financial burden of the Supplemental Priorities on students. One commenter noted that we do not include a focus on reducing the cost burden for postsecondary students and another commenter indicated that the priorities would further burden individuals with student loan debt.

Discussion: We appreciate the commenters' concerns, but think that there are several references in the priorities that address reducing the cost burden for postsecondary students. For example, subpart (a) of Priority 5 focuses on projects that will reduce the net cost and median student loan debt for High-need Students who enroll in college, other postsecondary education, or other career and technical education. In addition, we also include a priority focused on increasing academic outcomes for High-need Students, as well as a priority that focuses on developing and implementing college-ready standards and assessments, which help to reduce the number of students who arrive at college unprepared and in need of additional time to complete their degrees, and thereby reduce such students' postsecondary costs.

Changes: None.

Comment: One commenter suggested that we add a priority that would focus on four-year IHE applicants, stating that the Federal government invests large amounts in IHEs annually, but does not ask for reported outcomes in return. In addition, the commenter suggested that we give low-performing IHEs three to six years to improve and proposed definitions for “low-performing college” and “low graduation rate college.” The commenter also recommended that we recognize high-performing IHEs and award competitive preference priority points to those high-performing applicants that wish to implement projects that support colleges and universities with low graduation rates in improving their first-time, full-time student graduation rates.

Discussion: We do not specify who may be eligible to apply for grants under this, or any, priority. The focus of this priority is intentionally not limited to projects proposed by IHEs, as we are focused on the outcomes for students, irrespective of the type of applicant. The type of applicant will be specified by the eligibility requirements for the discretionary grant programs in which this priority is used and, therefore, we do not think that it is necessary to revise the priority in a manner that would limit its use.

Changes: None.

Comment: One commenter suggested that we further prioritize affordability by adding an additional subpart that would support projects that provide meaningful information about college to students and their families.

Discussion: We appreciate the commenters' suggestion and agree that it is important to support projects that provide meaningful information about college to students and their families. Subpart (c) of Priority 5, which supports projects that increase postsecondary enrollment or completion through college preparation, awareness, recruitment, application, and selection activities, would support this type of project.

Changes: None.

Comment: One commenter suggested that we include a subpart to support the development and implementation of an ongoing feedback process between IHEs and LEAs, and suggested a definition for “ongoing feedback process.” The commenter also recommended creating a new priority that focused on key secondary and postsecondary transition points. Another commenter also noted the importance of coordination between secondary and postsecondary leaders to ensure that coursework at the high school level adequately prepares students for college.

Discussion: We appreciate the commenters' suggestions and think that projects designed to improve those transitions or coordination fall within the scope of Priority 5.

Changes: None.

Comment: One commenter urged the Department to include the early childhood workforce in its initiatives related to student loans and teacher preparation program involvement.

Discussion: We appreciate the commenter's support for the Department's initiatives on the early childhood workforce and agree that this continued focus is important. We have included Priority 1—Improving Early Learning and Development Outcomes, which includes in subpart (b) a focus on the early childhood workforce.

Changes: None.

Comment: One commenter asked the Department to include a focus on K-12 in-school and out-of-school programs that provide students with appropriate support to enter college prepared.

Discussion: We appreciate the commenter's suggestions and think that these types of programs fall within the scope of Priority 5.

Changes: None.

Comment: One commenter asked the Department to prioritize underserved college students who are obtaining STEM degrees.

Discussion: We agree that it is important to prioritize underserved college students who are obtaining STEM degrees. Under Priority 7—Promoting Science, Technology, Engineering, and Mathematics Education, we include subpart (d), which addresses the commenter's request.

Changes: None.

Comment: Several commenters made suggestions to improve subpart (b) of Priority 5. Specifically, one commenter suggested we remove the reference to “on time” completion in subpart (b), noting that students with disabilities often need additional time to complete college. Another commenter asked that we prioritize projects that focus on preparing middle school students to be on a college path. A third commenter asked that we emphasize the role that IHEs can play in developing secondary programs designed to improve degree and certificate completion, noting that the goal must be to increase completion in programs that represent high-quality academic knowledge and understanding.

Discussion: We recognize that some groups of students struggle disproportionately to complete college on time. It is for this reason that we want to prioritize projects that could help these students to complete their degrees more quickly through better academic preparation.

Regarding the suggestion for preparation of middle school students, the priority does not preclude applicants who address subpart (b) of Priority 5 from proposing middle school interventions.

Finally, regarding the suggestion that we emphasize the role that IHEs can play in developing secondary programs designed to improve degree and certificate completion, this priority intentionally focuses on student outcomes. We think that projects designed to improve coordination between IHEs and high schools already fall within the scope of Priority 5.

Changes: None.

Comment: Several commenters made suggestions to the language in Priority 5 so that specific strategies could be included in the subparts. Specifically, one commenter suggested the inclusion of early college high schools in subpart (c). Two commenters suggested that we include dual enrollment and early college high school programs as strategies in subpart (f), while another commenter suggested that we include dual enrollment and early college high school programs as a separate subpart. In addition, one commenter asked that we revise the priority so that applicants could propose strategies that do not involve online or hybrid approaches. Another commenter suggested that we define “hybrid learning opportunities.”

Discussion: We appreciate the commenters' suggestions and think that many of the suggestions made are within the scope of subparts (b) or (c) of Priority 5. We decline to revise Priority 5 in a manner that might limit its use.

We think that hybrid learning opportunities consist of a combination of online and in-person techniques. We think that this term is commonly used and understood in the field and, therefore, do not think it is necessary to define it.

Changes: None.

Comment: One commenter suggested that we clarify that our use of the phrase “regular high school diploma” in subpart (d) of Priority 5 is aligned with the definition of that phrase in 34 CFR 200.19(b)(iv).

Discussion: We agree that our definition of the term Regular High School Diploma should be aligned with 34 CFR 200.19(b)(1)(iv). We have included the definition of Regular High School Diploma in this NFP.

Changes: We have indicated that applicants should refer to the definition for Regular High School Diploma included in this NFP. We have also added the definition of Regular High School Diploma in 34 CFR 200.19(b)(1)(iv) to the definitions section.

Comment: None.

Discussion: After review, we decided that subpart (a) of Priority 5 may be challenging for applicants to address, because it would be very difficult to obtain information about the student loan default rate for High-need Students.

Changes: We have revised subpart (a) so that it now reads: “Reducing the net cost, median student loan debt, and likelihood of student loan default for High-need Students . . .”

Priority 6—Improving Job-Driven Training and Employment Outcomes

Comment: One commenter supported this priority and asked that we ensure that it is aligned with the U.S. Department of Labor's efforts and with the Workforce Innovation and Opportunity Act (WIOA), enacted on July 22, 2014. Another commenter noted that, while subpart (d) of Priority 6 includes a focus on providing Labor Market Information, we do not provide an incentive to applicants to use Labor Market Information to continuously improve training programs.

Discussion: We support the Department of Labor's efforts in this area and note that Priority 6 is fully aligned with WIOA. For example, WIOA promotes engagement with employers so that education and training programs supported by the Department can equip individuals with the education and skills sought by employers.

We agree that thoughtfully using Labor Market Information should be included in this priority, and note that such a change would further align Priority 6 with Vice President Biden's July 22, 2014 report to the President entitled Ready to Work: Job-Driven Training and American Opportunity.⁴

⁴ Available at: http://www.whitehouse.gov/sites/default/files/docs/skills_report.pdf.

We also agree that using Labor Market Information effectively is important and have added a subpart to Priority 6 to encourage applicants to use it to inform their projects. We also define the term Labor Market Information in this NFP, and note that our definition aligns with the definition in the July 22, 2014 Office of Management and Budget memorandum entitled “Ensuring that Employment and Training Programs are Job-Driven.” ⁵

⁵ Available at: http://www.whitehouse.gov/sites/default/files/omb/memoranda/2014/m-14-15.pdf.

Changes: We have added a subpart to Priority 6 so that it now reads: “Using Labor Market Information to inform the focus of programs and to guide jobseekers in choosing the types of employment or fields of study, training, or credentials to pursue.” This subpart is subpart (e), and the proposed subpart (e) is now subpart (f). We have also included a definition of Labor Market Information, and note that applicants should refer to that definition when proposing a project that addresses subpart (d) of Priority 6, in addition to subpart (e).

Comment: One commenter noted that the goals of Priority 6 could be achieved through community partnerships, internships, and career and technical courses in high school. Another commenter suggested that we include an additional subpart focused on career-based classroom learning, real-world workplace experiences, and wraparound supports for high school students.

A third commenter urged the Department to provide a clear focus on academic skill-building in Priority 6.

Discussion: We agree that the strategies listed by the first commenter could be used to address Priority 6. In general, we do not prescribe specific strategies because we think that applicants are best suited to propose appropriate strategies given the needs of their target populations. We do not want to limit the potential use of this priority. We therefore do not think that it is appropriate to incorporate into Priority 6 the strategies suggested by the first commenter or the subpart suggested by the second commenter.

We think that a project designed to improve academic skill-building would be well-aligned with subpart (c) of this priority, which seeks projects designed to improve job-driven training and employment outcomes by integrating education and training into a career pathways program through a variety of means. We also think that applicants proposing such a project would be well-positioned to address subpart (d) of Priority 5—Increasing Postsecondary Access, Affordability, and Completion, which includes an explicit focus on obtaining basic and academic skills.

Changes: None.

Comment: One commenter asked that we remove the focus in Priority 6 on Low-skilled Adults and High-need Students, because, by limiting the scope to projects that serve only these individuals, it would impede systemic organizational change.

Discussion: We appreciate the commenter's concern and agree that all students deserve appropriate support. While subparts (b) and (c) of Priority 6 do reference these groups specifically, a project could serve any other type of student so long as the project also serves Low-skilled Adults or other High-need Students. We think that it is important to focus on these groups because they may need more targeted assistance; however, applicants addressing Priority 6 have flexibility in choosing the populations they will serve.

Changes: None.

Comment: One commenter expressed support for “ability to benefit.” The commenter also suggested we focus on expanding research in the adult education and literacy field, and conduct a review of the historically low funding levels for adult education.

Discussion: In the Administration's FY 2015 budget request, we proposed to restore the “ability to benefit” provision for students who are enrolled in eligible career pathway programs to qualify for financial assistance. We note, however, that the “ability to benefit” requirement was eliminated by Congress in 2011.

To better understand the best strategies to improve reading skills for struggling adult learners, the Department has invested in research on adult education through the Center for the Study of Adult Literacy, funded by the Institute of Education Sciences (IES). In addition, the Department of Labor has recently launched the Clearinghouse for Labor Evaluation and Research ⁶ to make data on labor topics more readily accessible.

⁶ Available at: http://clear.dol.gov/.

Changes: None.

Comment: One commenter supported Priority 6, but was concerned that rural applicants would struggle to implement projects addressing this priority due to a dearth of employment opportunities in their communities.

Discussion: We do not think that rural applicants would be disadvantaged by Priority 6, because its purpose is to support projects that narrow the gap between employment opportunities and workforce skills in every community, including rural communities.

To address such gaps in high-need communities, we note that in January 2014, President Obama announced the first five Promise Zones: The Choctaw Nation of Oklahoma, Los Angeles, Philadelphia, San Antonio, and Kentucky Highlands. On March 27, 2014, the Department published an NFP for the Promise Zones Initiative (79 FR 17035), which focuses Federal financial assistance on expanding the number of Department programs and projects that support activities in the above-mentioned Promise Zones. We may now include in our discretionary grant competitions an absolute or competitive preference priority for areas designated as Promise Zones, meaning that applicants would have the incentive to design projects that support these areas. While the designated Promise Zones include a mix of rural and urban communities, we think that use of the Promise Zones priority will provide an incentive to applicants to support rural communities such as those described by the commenter.

Changes: None.

Comment: One commenter asked that we emphasize collaboration with labor unions in subpart (b) of Priority 6 because they may already be providing work-based learning opportunities.

Discussion: We agree that collaboration with labor unions and other workers' organizations is important, and while we do not include an explicit focus on such collaboration in subpart (b), that collaboration is reflected in subpart (a) through the definition of Employer Engagement. We also note that the parenthetical list in subpart (b) is illustrative, and that applicants have flexibility in the types of opportunities they propose to provide. The strategies by which they propose to provide work-based learning opportunities are also at the applicant's discretion, so an applicant could deliberately include collaboration with labor unions as part of its proposed approach. We think that the commenter's suggestion is already within the scope of Priority 6.

Changes: None.

Comment: One commenter felt that the phrase “stackable credentials” in subpart (c) of Priority 6 was unclear, and suggested that we define the term. Two commenters recommended that we replace the term “industry-relevant certification” with “industry-recognized credentials,” as that term is more commonly used, and thus more commonly recognized, in the field. Another commenter asked that we explicitly include engagement with colleges, particularly community colleges, in subpart (c).

Discussion: We value clarity and the use of common terms, and agree with the first commenter that Stackable Credentials should be defined. We have included a definition in this notice, and also indicate in subpart (c) that this term has been defined. Our definition is aligned with a December 15, 2010 Department of Labor guidance document entitled “Increasing Credential, Degree, and Certificate Attainment by Participants of the Public Workforce System.” ⁷ We also agree with the commenters that “industry-recognized credentials” is a commonly used term, and have edited the subpart to reflect that.

⁷ Available at: http://wdr.doleta.gov/directives/attach/TEGL15-10.pdf.

In response to the commenter who suggested that we include a focus on engaging colleges, we agree that such engagement would be important to the success of projects addressing this priority. Therefore, we include in subpart (c) a parenthetical phrase to indicate that applicants may consider including engagement of community colleges or other IHEs in their proposed projects.

Changes: We have included a definition of Stackable Credentials, and note in subpart (c) of Priority 6 that applicants should refer to that definition. We also have replaced “industry-relevant certification” with “industry-recognized credentials” in subpart (c). Finally, we have included the following parenthetical phrase in subpart (c) to indicate that applicants may consider including engagement of community colleges or other IHEs in their proposed projects: “(Such as education and training programs offered by community colleges or other institutions of higher education . . .”

Comment: One commenter identified a flaw in subpart (d) of proposed Priority 6. Specifically, the commenter noted that, as proposed, subpart (d) implies that all items listed after “including” would be mandatory for applicants to incorporate into their proposed projects, but that an applicant could also disregard the list and propose to provide a different support, because the list concluded with “. . . or others as deemed appropriate.”

The commenter noted a similar flaw in subpart (e) of proposed Priority 6, where we reference both personnel and service providers, but do not clearly explain whether we consider the two groups to be fundamentally different.

Discussion: We appreciate the commenter's thoughtful review and note that, in both cases, the lack of clarity was not intended. In subpart (d), it is not our intent to require applicants to propose projects that would provide support in all the areas noted, and on review of the proposed subpart (e), which is now subpart (f), we think it is unnecessary to include both personnel and service providers. We have modified subparts (d) and (f) to clarify Priority 6.

Changes: In subpart (d), we have replaced “including” with “such as.” In subpart (f), we have removed “personnel.”

Comment: One commenter asked that we include in proposed subpart (e), which is now subpart (f), instructors and students, in addition to service providers and customers, so that professional development could also be provided to teachers of career and technical education.

Discussion: This subpart is intended for vocational rehabilitation agencies and other providers who serve adults who may not be enrolled in an educational institution or program. As such, we do not think that it is appropriate to include instructors and students.

Changes: None.

Comment: One commenter recommended a number of changes to Priority 6. They include defining the terms “employment outcomes,” “job-driven training,” “non-degree postsecondary credentials,” and “workforce and labor market information;” establishing new subparts focused on Labor Market Information, counseling, training for counselors, and increasing the capacity of education and training institutions to use Labor Market Information; specifying that the career pathways programs referenced in subpart (c) should lead to “a non-degree postsecondary credential;” and specifying that the purpose of providing the support services outlined in subpart (d) of Priority 6 is to “facilitate credential attainment, employability, and job tenure.”

Discussion: We decline to add the new definitions recommended by the commenter because we do not think that they are necessary to implement Priority 6. Most of the topics that the commenter recommended we include as subparts are already addressed adequately by the other subparts in Priority 6. We also do not agree with the commenter's recommendation that career pathway programs be limited to pathways that lead to non-degree postsecondary credentials; instead, we think that pathways should lead to the full range of postsecondary credentials, including associate's and baccalaureate degrees. Finally, we agree with the commenter's proposed clarification of the purpose of providing the support services described in subpart (d) and have modified the subpart accordingly.

Changes: We have added the phrase “that facilitate credential attainment, employability, and job tenure” to the end of subpart (d).

Priority 7—Promoting Science, Technology, Engineering, and Mathematics (STEM) Education

Comment: One commenter suggested that STEM education is supported by philanthropy and business, rendering Federal support unnecessary, and recommended that we remove Priority 7.

Discussion: Efforts to improve STEM education are often supported by a diverse group of funders. However, the Supplemental Priorities reflect our policy agenda, which includes, among other things, a focus on preparing students to meet the current demands of the labor market and on preparing teachers to effectively teach STEM subjects. We think that projects designed to address the distinct subparts listed in Priority 7 will help to achieve these goals.

Changes: None.

Comment: One commenter suggested that we enhance Priority 7 by asking applicants to provide internships as part of their proposed projects. Another commenter requested that we highlight in Priority 7 the importance of partnerships with industry organizations.

Discussion: We agree with both commenters and think that strategies similar to those described are already reflected in Priority 7. For example, an applicant could propose a project that included a focus on internships to address subparts (b), (c), (d), and (e) of Priority 7. We also note that an internship could be considered an Authentic STEM Experience. In addition, we note that local or regional partnerships are supported through subpart (e) of Priority 7.

Changes: None.

Comment: A few commenters asked that we include in Priority 7 a focus on early indicators of STEM success. One commenter suggested we use Priority 7 to focus on building research about early mathematics and science learning.

Discussion: We agree that it is important to identify indicators of STEM success for children and students. In Priority 1—Improving Early Learning and Development Outcomes, projects designed to address any of the subparts must improve outcomes across at least one of the Essential Domains of School Readiness, which include early mathematics and early scientific development. Early childhood educators may also benefit from projects that address Priority 7, and to clarify that, we remove the reference in subpart (a) to teachers of career and technical education, which may have been viewed as limiting the scope of the priority.

We appreciate the commenter's request that we use Priority 7 as a mechanism to build the evidence base supporting early mathematics and science learning. As discussed elsewhere in this notice, the Department currently supports evidence-based funding through several provisions in EDGAR, most notably 34 CFR 75.590 (Evaluation by the grantee). In addition, discretionary grant programs may use selection factors included in 34 CFR 75.210(h) (Quality of the project evaluation), as appropriate, to encourage applicants to design evaluations of their projects that accurately reflect the research questions most relevant to the field. Because the Department has discretion in choosing the types of evidence-building activities that are most appropriate for particular discretionary grant programs, we do not think that it is necessary to include a requirement that applicants addressing Priority 7 build the research base in a specific policy area.

Changes: We have revised subpart (a) of Priority 7 so that it now reads: “Increasing the preparation of teachers or other educators in STEM subjects through activities that may include building content knowledge and pedagogical content knowledge, and increasing the number and quality of Authentic STEM Experiences.”

Comment: One commenter asked that the term “teachers” be replaced with “educators” in subpart (c) of Priority 7.

Discussion: We appreciate the commenter's suggestion, and note that, while teachers are not mentioned in subpart (c) of Priority 7, both teachers and educators are included in subpart (a).

Changes: None.

Comment: One commenter suggested the addition of several subparts to highlight the role that afterschool and summer programs can play in promoting STEM education, encouraging joint professional development for community educators and teachers, and increasing partnerships between LEAs and afterschool and expanded learning programs. Another commenter suggested that we include a focus on public-private partnerships that would align STEM labor market demands with a supply of well-prepared STEM workers.

Discussion: We agree with the first commenter and think that the areas of focus suggested are important; however, we do not think that it is appropriate to prescribe the specific types of programs, such as afterschool or summer programs, that should be supported through the Supplemental Priorities. We think that applicants are best-suited to propose projects that will meet the needs of the target populations they propose to serve, and those projects may include support for afterschool or summer programs. The main goal of the priority is to prepare students to meet the demands of the STEM labor market.

Finally, we note that our reference in subpart (a) of Priority 7 to “other educators,” as well as our reference to Authentic STEM Experiences, allows applicants to propose projects that include a focus on joint professional development. To further bolster this concept, we revise subpart (b) of Priority 7 to clarify that projects designed to provide students with increased access to STEM opportunities may be integrated across multiple settings.

Changes: We have revised subpart (b) of Priority 7 so that it ends with the phrase: “. . . that may be integrated across multiple settings.”

Comment: One commenter urged the Department to include in Priority 7 a focus on arts education to improve students' creative thinking skills.

Discussion: We appreciate the commenter's suggestion, and note that Priority 7 includes ways for projects to address creative thinking skills. For example, subpart (b) of Priority 7 could be used to support projects that provide students with increased access to Authentic STEM Experiences, which could be laboratory, research-based, or experiential learning opportunities in informal or formal settings.

We also note that applicants could include a focus on arts education in a project designed to promote STEM education; and that elements of arts education can be particularly relevant to technology and engineering programs. In fact, we view arts education as a strategy that can touch several of the Supplemental Priorities.

Changes: None.

Comment: One commenter asked that we include a new subpart in Priority 7 that would support projects that engage parents and families in their children's STEM education.

Discussion: We agree that family engagement is important for student success in all subjects and reflect our interest in supporting family engagement in Priority 14—Improving Parent, Family, and Community Engagement. As appropriate, we may combine elements of Priority 7 and Priority 14 to solicit applications that include both a focus on STEM and on family engagement.

Changes: None.

Comment: One commenter expressed concern that subpart (d) of Priority 7, which would support projects that are intended to increase the number of individuals from groups that have been historically under-represented in STEM who are provided with rigorous STEM coursework and prepared for postsecondary study and careers in STEM, is unconstitutional. The commenter asserts that the Federal government cannot use classifications based on race, ethnicity, or gender in its efforts to support the improvement of student outcomes.

Discussion: Subpart (d) of Priority 7 is designed to support investments in strategies that are most likely to increase access to rigorous STEM coursework, and preparation for postsecondary study and careers in STEM, for individuals from groups that have been historically under-represented in STEM fields. These individuals may include, but are not limited to, minorities, individuals with disabilities, and women. This priority does not encourage or require classifications based on race, ethnicity, or gender. Applicants may propose approaches that seek to increase participation by individuals from groups that have been historically under-represented and that serve all individuals. We further note that recipients of Department funding must comply with the nondiscrimination requirements of Title VI of the Civil Rights Act of 1964, Section 504 of the Rehabilitation Act of 1973, Title IX of the Education Amendments of 1972, and the Age Discrimination Act of 1975. For more information on these requirements, and other guidance related to diversity, please visit the Department's Office for Civil Rights (OCR) Web site at http://www2.ed.gov/about/offices/list/ocr/index.html.

Changes: None.

Priority 8—Implementing Internationally Benchmarked College- and Career-Ready Standards and Assessments

Comment: One commenter supported internationally benchmarked college- and career-ready standards, but noted that many States are already of developing and implementing those standards. Thus, the commenter argued that it was not necessary for the Federal government to support this type of work.

Discussion: Priority 8 is not focused on developing the standards themselves. Rather, this priority supports strategies for implementing college- and career-ready standards effectively, and projects designed to address Priority 8 would not be conducted at the Federal level. Rather, the Department would use this priority to support State, local, or regional entities carrying out this work and those entities would propose strategies that are best-suited to the populations they propose to serve and the particular college- and career-ready standards and assessments that are being implemented.

Changes: None.

Comment: One commenter expressed concern that the term “performance-based tool,” found in subpart (a) of Priority 8, is not a commonly understood term.

Discussion: We appreciate the commenter's concern. We think, however, that the text of subpart (a) provides the necessary context for the term “performance-based tool.” Our intent in this subpart is to broadly refer to performance-based tools, allowing applicants flexibility in developing and implementing the materials they need in order to effectively assess student progress.

Changes: None.

Comment: One commenter asked that we provide further incentives to States to broaden their accountability definitions and requirements to include a more comprehensive definition of student success. The commenter noted the importance of using multiple measures, formative assessments, non-test-based evidence of learning, and progress toward personal growth objectives.

Discussion: We agree that the elements listed by the commenter can be important and useful measures of student success, and we include formative assessments in subpart (a) of Priority 8. While we do not mention the commenter's other examples specifically in the subpart, we think that the phrase “performance-based tools” is broad and could encompass several types of measures.

Changes: None.

Comment: One commenter suggested that we revise subpart (a) so that it is clear that the focus of student assessments should be to improve and inform instruction and learning.

Discussion: We agree with the commenter that student assessments should be used to improve and inform instruction and learning, but we do not think that it is necessary to revise subpart (a) to require applicants to focus on those goals.

Changes: None.

Comment: Two commenters asked that we include in subpart (b) of Priority 8 a focus on professional development for principals, as well as teachers.

Discussion: We agree that supporting principals with professional development and training opportunities that are aligned with college- and career-ready standards is important, and have edited subpart (b) to reflect this goal.

Changes: We have revised subpart (b) to read: “Developing and implementing teacher or principal professional development or preparation programs that are aligned with those standards.”

Comment: One commenter suggested several revisions to subparts (b) and (c) of Priority 8. The commenter suggested that we should encourage applicants to provide opportunities for deeper learning, improving content knowledge, communicating effectively, collaborating with peers, and participating in professional development that is self-directed. The commenter also asked that Priority 8 be revised to specifically support efforts to improve literacy instruction, and be tailored to meet the needs of middle and high school teachers.

Discussion: We appreciate the commenter's suggestions and agree that the elements outlined by the commenter are important. However we do not think that it is appropriate in these priorities to prescribe specific strategies, content areas, or grades on which projects should focus, because we think that applicants are best-suited to propose projects that meet the needs of the target populations they propose to serve.

Changes: None.

Comment: One commenter requested that we require that new assessments developed by applicants or grant recipients be licensed with an intellectual property license that allows for unrestricted reuse and modification.

Discussion: We appreciate the commenter's suggestion, but we do not believe that it is appropriate to impose this license requirement unilaterally, because making some types of assessments so broadly available could have implications for academic integrity. The Department's existing regulations relating to products produced with grant funds already provide that grantees may copyright intellectual property produced with Department grant funds per 34 CFR 75.261 (Copyright policy for grantees). However, under 34 CFR 74.36 (Intangible property) and 80.34 (Copyrights), the Department retains a non-exclusive and irrevocable license to reproduce, publish, or otherwise use those project materials for government purposes.⁸ This license gives the Department the authority we need to ensure that materials produced as part of Department-supported grant projects can be made available to the public.

⁸ For grants awarded on or after the date on which the Department adopts and makes effective the Uniform Guidance in 2 CFR part 200 (expected on December 26, 2014), 2 CFR 200.315(b) would preserve the Federal government's license that exists under current §§ 74.36 and 80.34.

Changes: None.

Comment: One commenter asked that we include a new subpart in Priority 8 focused on developing equitable conditions and resources to support the implementation of standards and improve students' academic skills and opportunities in a broad range of subjects and competencies, in order to prepare students for success in the globally interdependent world.

Conversely, one commenter objected to our reference to internationally benchmarked standards and assessments, explaining that students should not be focused on comparing themselves to their peers in other nations, but rather on their own academic achievement.

Discussion: We agree that students must be prepared for success in college, career, and life. We think that the proposed subparts could support a project designed to do what the commenter described, and also note that any project proposed to address Priority 8 would need to be relevant to internationally benchmarked standards and assessments. We also note that Priority 12—Promoting Diversity already provides an opportunity for a focus on preparing students to be successful in the increasingly diverse workforce.

Finally, we disagree with the commenter that students should not be prepared to be globally competitive and note that the Department's mission is to promote Student Achievement and preparation for global competitiveness by fostering educational excellence and ensuring equal access. We think that projects designed to assess students against internationally benchmarked college- and career-ready standards will help to ensure those students are on track for future success in any context.

Changes: None.

Priority 9—Improving Teacher Effectiveness and Promoting Equitable Access to Effective Teachers

Comment: One commenter expressed support for proposed Priority 9 and proposed Priority 10—Improving the Effectiveness of Principals, and suggested several instances where we could better differentiate supports for teachers and principals in other priorities and definitions proposed in the NPP.

Discussion: We appreciate the commenter's suggestion, and note resulting changes to Priority 1—Improving Early Learning and Development Outcomes. We thought clearer differentiation was appropriate in subpart (b) of Priority 1, which focuses on improving the knowledge, skills, and abilities of the early learning workforce because, we think that it is crucial for administrators to be well-versed in methods of improving young children's health, social-emotional, and cognitive outcomes. However, we did not edit all the priorities suggested by the commenter, because we do not think that each priority identified by the commenter focused on a professional development or training need that is as meaningful for principals as it is for teachers. We also note that, in priorities in which we use the term “educator,” a project could be designed to support individuals, such as principals, who are not teachers.

Changes: We have revised Priority 1 to better reflect the needs of administrators and leaders. Further explanation of this change is included in relevant sections of this notice.

Comment: One commenter expressed general concern that the Department does not focus its efforts on encouraging teachers to be innovative, creative, and effective in the classroom. Another commenter stressed that we explicitly focus on balancing direct instruction with project-oriented methods, enhancing problem-solving through deep understanding of subject matter, improving critical thinking skills, and cultivating teachers' recognition of student learning styles.

Discussion: We agree that innovative, creative, and effective teachers are important to students' academic success. For this reason, we have included Priority 9, which focuses in part on supporting teachers to be effective in the classroom. Particularly, we note that subpart (a)(i) of Priority 9 focuses on preparing, recruiting, selecting, and developing teachers to be effective. We think that, to be effective, teachers also need to be innovative and creative. As such, a project designed to increase the number and percentage of effective teachers through the strategies outlined in subparts (a)(i) or (ii) of Priority 9 would likely support teachers to be innovative and creative.

In addition, we thank the commenter who suggested several specific foci for this priority. We agree that the skills suggested by the commenter are relevant, but also think that these skills are captured in Priority 9. Priority 3—Promoting Personalized Learning, can support projects that help teachers customize their instructional approaches to meet the needs of individual students.

Changes: None.

Comment: One commenter expressed general support for the proposed priorities, but suggested that we also support projects that reduce class sizes, particularly in secondary schools, and that we support paid teacher internships for new teachers that mirror the training that medical doctors receive.

Discussion: We think that there are several ways that our discretionary grant programs could use this priority to solicit projects that are designed to better prepare and support teachers, and to ensure that teachers have manageable workloads. In general, we do not wish to require applicants proposing projects under Priority 9 to support teachers through specific strategies. Rather, we think that applicants are generally best suited to propose specific strategies to support the target populations they propose to serve.

Changes: None.

Comment: One commenter asked that we expand proposed Priority 9 so that early learning providers could also benefit from the activities described in subparts (a) and (b).

Discussion: We agree that early learning providers should receive support so that they can be effective in their careers. Priority 9 does not preclude early learning and development teachers from benefiting from projects supported under Priority 9.

Changes: None.

Comments: A few commenters expressed support for Priority 9, but suggested that we include specific methods to support effective teachers. One commenter suggested that peer evaluations are helpful, and another stressed the importance of including strategies to support teachers to be effective in diverse classroom settings. In particular, the commenter asked that we encourage rural districts to implement “grow your own” strategies to improve teacher recruitment and retention.

Another commenter suggested that we revise the language in subpart (a) of Priority 9 to stress the importance and difficulty of staffing Lowest-performing Schools.

Discussion: We thank the commenters for suggesting specific strategies to support the preparation, recruitment, development, and retention of effective teachers, and agree that several strategies may be used to do this work successfully. We also agree that some strategies are better suited than others to effect positive change, depending on the needs of the community to be served by the proposed project. For these reasons, we do not want to limit the scope of Priority 9 by including or requiring the use of specific strategies. Rather, we expect applicants to propose appropriate strategies to increase the number and percentage of effective teachers in their schools and to promote equitable access to effective teachers.

We also agree with the commenter that rural schools, in addition to schools with high concentrations of students from low-income families and minority students, should be staffed by effective teachers. For this reason, we have revised Priority 9 to explicitly include “schools in Rural Local Educational Agencies.”

Finally, we agree that teachers working in Lowest-performing Schools, schools in Rural LEAs, and schools with high concentrations of students from low-income families and minority students may face unique challenges. We therefore have added language to subpart (a) of Priority 9 to better support projects that will increase the number and percentage of effective teachers in schools where they are most needed. Changes: We have revised subpart (a) of Priority 9 so that it now reads: “Increasing the number and percentage of effective teachers in Lowest-performing Schools, schools in Rural Local Educational Agencies, or schools with high concentrations of students from low-income families and minority students . . .” We have made a corresponding change to subpart (a) of Priority 10—Improving the Effectiveness of Principals.

Comment: One commenter suggested that we separate the concept of improving workplace conditions from subpart (a)(ii) because that strategy could not only improve the retention of effective teachers, but also increase successful teaching and learning. The commenter also noted the importance of tailoring professional development to meet the needs of new teachers, because they are typically assigned to classrooms and schools with greater needs, and suggested that we emphasize comprehensive teacher induction as an effective strategy for supporting those teachers. Another commenter suggested including, in subpart (a)(ii), a focus on relevant, effective, and outcome-oriented professional development to support teachers who work in challenging environments.

Discussion: We agree with the commenter that improving workplace conditions would not only improve retention of effective teachers, but also would support environments in which teachers and students can be successful. We note that subpart (a)(ii) of Priority 9 includes a focus on both retention and on creating opportunities for successful teaching and learning. For this priority, our focus is to support projects that are designed to retain effective teachers, and through such strategies as improving workplace conditions, improve outcomes for teachers and students.

We also agree with the commenter that teachers need differentiated support depending on the amount of time they have spent in the classroom. We think that, in order to implement the strategies outlined in subpart (a)(ii) well, an applicant would need to customize its approach to meet the needs of teachers in different stages of their careers. We also note that, in subpart (a)(i), we include a focus on early career teacher development. We therefore do not think it is necessary to edit Priority 9 to meet the needs of early career teachers.

We think that teachers working in Lowest-performing Schools, schools in Rural LEAs, and schools with high concentrations of students from low-income families and minority students may need differentiated support in order to be effective. We have changed subpart (a)(ii) of Priority 9 to more clearly communicate the expectations of the professional development to be delivered to teachers in these schools.

Changes: We have revised subpart (a)(ii) of Priority 9 so that it now reads: “Improving the retention of effective teachers through such activities as creating or enhancing opportunities for teachers' professional growth; delivering professional development to teachers that is relevant, effective, and outcome-oriented; reforming compensation and advancement systems; and improving workplace conditions to create opportunities for successful teaching and learning.”

Comment: One commenter asked that we revise subpart (b) of proposed Priority 9 so that children with disabilities, in addition to students from low-income families and minority students, could benefit from projects designed to encourage equitable access to effective teachers.

Discussion: We appreciate the commenter's concern, and note that this subpart is intended to help SEAs and LEAs comply with requirements in 34 CFR 200.57(a)(2)(iii)(A) and (b)(2) that are designed to ensure that students from low-income families and minority students are not taught at higher rates than other students by inexperienced, out-of-field, or unqualified teachers.

Changes: None.

Comment: One commenter asked that we revise proposed Priority 9 to include a preference for nonprofit organizations that provide afterschool and extended learning programs, as well as nonprofit organizations that provide alternative routes to teacher certification.

Discussion: We agree that nonprofit organizations can play key roles in supporting and retaining effective teachers, and in providing students equitable access to effective teachers. Many, but not all, of our discretionary grant programs consider nonprofit organizations to be eligible to apply for funding. Because Priority 9 does not preclude nonprofit organizations and we do not want to revise the priority in a manner that would restrict the use of the priority by discretionary grant programs, we do not think that Priority 9 should be revised to specify their participation in projects to support effective teachers or to promote equitable access to effective teachers.

Changes: None.

Comment: One commenter noted that we refer to “low-income students” in Priority 9, but to “students from low-income families” in other priorities and definitions in the NPP.

Discussion: The use of two different phrases was unintentional and we thank the commenter for pointing out the discrepancy. We have revised this priority to ensure that we refer only to “students from low-income families.”

Changes: In Priority 9, we have changed “low-income students” to “students from low-income families.”

Comment: One commenter stressed the importance of understanding social and emotional competencies, and asked that we include in Priority 9 and Priority 10—Improving the Effectiveness of Principals projects that would support teacher and principal understanding of these competencies.

Discussion: While we agree that teachers and principals should fully understand the social and emotional needs of students at all grade levels, we do not think that changes to Priorities 9 or 10 are necessary to reflect this concept.

First, we include Priority 2—Influencing the Development of Non-Cognitive Factors. The inclusion of this priority represents a focus of the Department on improving students' mastery of skills and behaviors, such as perseverance, self-regulation, and social and emotional skills. Second, Priority 1—Improving Early Learning and Development Outcomes supports projects that improve outcomes for early learners across one or more of the Essential Domains of School Readiness, which include, among other things, social and emotional development. For these reasons, we do not think that edits to Priorities 9 or 10 are necessary in response to this comment.

Changes: None.

Priority 10—Improving the Effectiveness of Principals

Comment: One commenter asked that we highlight the importance of preparing principals to be effective in leading rural schools.

Discussion: We agree that principals face unique challenges in rural schools, much like teachers in those schools. We think it is important to include an explicit focus on schools in Rural LEAs and to augment the priority to reflect this.

Changes: We have revised subpart (a) of Priority 10 to support principals in schools in Rural LEAs.

Comment: One commenter suggested that we use Priority 10 to support projects that would retain talented individuals to lead schools, in addition to recruiting, selecting, preparing, and supporting those individuals.

Discussion: We agree that retaining effective principals in schools where they are needed most is an important way to significantly improve instruction.

Changes: We have revised subpart (e) of Priority 10 so that it now reads: “Implementing practices or strategies that support districts in hiring, evaluating, supporting, and retaining principals who effectively lead schools.”

Comment: One commenter suggested that we include a focus on district conditions, in addition to school conditions, in subpart (b) of proposed Priority 10, which seeks projects that identify, implement, and support policies and conditions to turn around Lowest-performing Schools.

Discussion: We agree with the commenter, and now include a focus on district conditions in subpart (b) of Priority 10.

Changes: We have revised subpart (b) of Priority 10 so that it now reads: “Identifying, implementing, and supporting policies and school and district conditions that facilitate efforts by principals to turn around Lowest-performing Schools.”

Comment: One commenter asked that we include foci on boards of education and superintendents, in addition to principals, in proposed Priority 10. Another commenter expressed concern that early learning education leaders would not be included in projects designed under this priority; and a third commenter asked us to extend our focus on aligning principal preparation programs to college- and career-ready standards so that the coursework begins with subject matter for children at birth, rather than at pre-kindergarten. A fourth commenter suggested that we revise subpart (e) of Priority 10 to promote the creation of leadership pipelines and to include teacher leaders, assistant principals, and principal supervisors in the subpart.

Discussion: We think that support of superintendents, boards of education, principal supervisors, and other district leaders is an integral component of strategies to effectively prepare and support principals to lead schools. For this reason, we include subpart (e) of Priority 10, which incentivizes projects designed to support districts in hiring, evaluating, and supporting principals.

We agree with the commenter that early learning leaders should also be prepared and supported so they can be effective in the schools or programs they lead. We include in subpart (c) of Priority 10 an emphasis on aligning principal preparation programs with pre-K through grade 12 college- and-career ready standards. We do not think that it is appropriate to extend this focus to encompass college- and career-ready standards for children who are not yet three years old, because those standards are not in place in most States. We note, however, that we have made some changes to Priority 1—Improving Early Learning and Development Outcomes to more explicitly reference early learning and development program administrators. We think that the changes in Priority 1 will allow for more flexibility in terms of the supports available to program administrators.

Finally, we also agree that creating pathways for teachers to move into leadership roles can be an effective way to encourage continued professional learning and growth for teachers. In general, we think that projects designed to meet subparts (a), (c), and (e) of Priority 10, as well as subpart (a)(ii) of Priority 9—Improving Teacher Effectiveness and Promoting Equitable Access to Effective Teachers, could focus on leadership pipelines or career pathways for teacher leaders and assistant principals.

Changes: None.

Comment: One commenter suggested that we encourage improvement in principal preparation and licensure through subpart (c) of Priority 10, which supports the creation and expansion of principal preparation programs.

Discussion: We thank the commenter for the suggestion, but note that principal licensure is handled largely by State agencies. Although some of the Department's discretionary grant programs include SEAs as eligible applicants, many do not. As such, licensure is not an activity that could be conducted by most applicants. We do not want to revise the priority in a manner that might limit its use.

Changes: None.

Comment: One commenter stressed the importance of ensuring that principals are well-versed in early learning curricula so that they are able to effectively lead instruction in that area, and so that they are able to appropriately evaluate teachers at various grade levels.

Discussion: We agree that principals must fully understand the curricula being taught by the teachers they lead, and that many principals oversee early learning and development programs in addition to elementary or secondary education programs. We note that Priority 10 includes a focus in subpart (c) on aligning principal preparation programs with pre-kindergarten through grade 12 college- and career-ready standards. We also think that projects that are designed to meet subpart (d) of Priority 10, which focuses on supporting principals in their mastery of instructional and organizational leadership skills, could include strategies to ensure that principals understand the unique needs of preschool teachers and other early learning and development providers. Further, we include mechanisms in Priority 1—Improving Early Learning and Development Outcomes to support educators and administrators to improve young children's health, social-emotional, and cognitive outcomes. Because these priorities provide multiple options for bolstering principals' understanding of early learning curricula, we do not think revisions are necessary to address the commenter's concern.

Changes: None.

Comment: One commenter expressed support for proposed Priority 10, but encouraged us to further strengthen subpart (d) by including specific leadership skills, such as developing and managing talent and creating a strong organizational culture focused on high expectations for student and teacher performance. Another commenter suggested several edits throughout Priority 10 to highlight additional important skills that principals must master, including accessing and using data to make decisions and improving the learning environment in addition to instruction.

Discussion: We thank the commenters for suggesting specific skills to prioritize. In general, we do not think that it is appropriate, through this NFP, to dictate specific strategies, methods, or activities beyond the broad areas of focus outlined in each priority. We think that applicants are generally best-suited to choose approaches that are most appropriate in their particular contexts.

Changes: None.

Priority 11—Leveraging Technology To Support Instructional Practice and Professional Development

Comment: Several commenters noted the benefits of education technology and expressed support for proposed Priority 11. Several of these commenters also provided suggestions for expanding the reach of the proposed priority. Two commenters suggested that the Department expand subpart (c) to support projects that offer a broader range of activities by including school leaders and technology leaders in addition to educators as staff that could earn professional development credit, certification, or continuing education and supporting online networks for peer collaboration or mentorship. One commenter also suggested adding a focus on teacher preparation coursework to build new teachers' capacity to engage in learning environments and use digital tools. Similarly, another commenter recommended adding professional development for educators on how to effectively use digital resources and student data. One commenter encouraged the Department to consider content and pedagogy as necessary elements to inform the development of high-quality digital materials, and another commenter suggested adding a subpart for projects that use technology to restructure the traditional pedagogical model to overcome traditional time, space, and fiscal constraints.

One commenter requested that the Department include a focus on school- and district-level activities, including the development and implementation of comprehensive plans for technology integration and data privacy policies. Another commenter suggested that research and evaluation be included as a required activity under the proposed priority.

Discussion: We appreciate the commenter's recommendations and note that many of the suggestions are covered under subpart (c) of Priority 11. For example, we think that “educators”, as it appears in subpart (c), is a broad enough term to encompass school leaders, in addition to teachers. We also think that professional development on the use of digital resources, the use of student data, and privacy policies would be appropriate elements of a project that addresses subpart (c) of Priority 11. In general, we do not think that it is appropriate to prescribe the specific topic of the professional development, because applicants are best suited to identify the needs of the teachers and leaders they propose to serve. The purpose of this priority is for applicants to leverage the use of technology in supporting instructional practices and professional development; we do not intend to restrict the topics of the instructional practice or professional development. Further, we do not think that it is necessary to revise the priority to include a subpart for projects that use technology to restructure the traditional pedagogical model to overcome traditional time, space, and fiscal constraints because those projects may be supported under Priority 3—Promoting Personalized Learning.

We decline to list or prescribe specific types of learning communities. As proposed, we think that learning communities would allow for online networks for peer collaboration. However, we change “including” to “such as” in subpart (c) to clarify that projects addressing the priority may include online learning communities that do not result in awarding professional development or continuous learning units.

We agree with the commenter that applicants addressing this priority will benefit from the development and implementation of comprehensive plans for technology integration and data privacy policies. However, given the variety of programs and entities that may use or address this priority, we do not think that it is appropriate to include those requirements in Priority 11. We also note that recipients of Department funding are required to protect the privacy of student data. Additionally, a program using this priority could use factors from 34 CFR 75.210(c) (Quality of the project design) or 34 CFR 75.210(h) (Quality of the project evaluation) to encourage applicants to address their planning and sustainability needs, as well as their proposed project evaluations, as part of their proposed projects.

Changes: None.

Comment: One commenter recommended that proposed Priority 11 include language highlighting the value of technology in supporting improved outcomes for young children and their families.

Discussion: We agree with the commenter that technology can enhance the implementation of early learning projects and efforts to more effectively engage parents. In fact, we discussed the opportunities to leverage this priority with Priority 1—Improving Early Learning and Development Outcomes and Priority 14—Improving Parent, Family, and Community Engagement in the background provided in the NPP. We include the priority on leveraging technology as a separate priority so that discretionary grant programs have the flexibility to use the priority alone or in combination with other priorities.

We decline to revise the priority in a manner that would limit the types of students that could be served by projects that address the priority. As proposed, Priority 11 does not preclude projects with a focus on early learning or early grades. However, we have revised subpart (a) of Priority 14—Improving Parent, Family, and Community Engagement to include an explicit reference to technological tools as a means to expand and enhance the skill, strategies, and knowledge of parents and families.

Changes: In subpart (a) of Priority 14, we have revised the parenthetical list so that it now begins with: “including techniques or use of technological tools . . .”

Comment: Several commenters suggested that the proposed priority be revised to require projects supported under it to be based on the principles of UDL.

Discussion: Although UDL is not explicitly discussed in Priority 11, an applicant could propose to develop and implement high-quality accessible digital tools, materials, and assessments that are based on UDL principles in response to subpart (b). Moreover, the priority, as proposed, does not preclude an applicant from using the approach or principle it determines to be most suitable for its project. We therefore decline to revise the priority.

Changes: None.

Comment: One commenter noted that the use of “particularly” in subpart (a), with respect to open educational resources, and “including” in subpart (c), with respect to certain types of online courses, learning communities, and simulations, may be too restrictive.

Discussion: The Department strongly encourages the use of Open Educational Resources (OER) and online courses, learning communities, or simulations that award professional development credit or continuing education units, but did not intend to restrict subparts (a) and (c) so that only those projects could apply. We agree with the commenter that the use of “including” in subpart (c) may be too restrictive and we have revised the subpart to better reflect our intent. However, we do not think that the use of “particularly” in subpart (a) is too restrictive, because it appropriately reflects the Department's interest in promoting the development and use of OER.

Further, in our review of Priority 11, we concluded that subpart (a) could be better organized to ensure the clarity of our intent regarding OER. We have also revised subpart (c) to clarify that we intend the courses, learning communities, and simulations that are supported by projects under this priority to be high-quality, accessible, and online.

In addition, on reconsideration of Priority 11, we noticed that the phrasing of subparts (b) and (c) was unintentionally restrictive and would require applicants to both develop and implement the elements described in each subpart. We think that there are cases in which an applicant that may want to implement an already-developed product, but would be precluded from doing so by the proposed subpart language. As such, we have revised subparts (b) and (c) of Priority 11 to require that applicants only implement, with the clear understanding that some applicants may also develop, the products they propose to implement, as appropriate.

Changes: We have revised subparts (a), (b), and (c) of Priority 11 so that they now read:

(a) Using high-speed Internet access and devices to increase students' and educators' access to high-quality accessible digital tools, assessments, and materials, particularly Open Educational Resources.

(b) Implementing high-quality accessible digital tools, assessments, and materials that are aligned to rigorous college- and career-ready standards.

(c) Implementing high-quality, accessible online courses, online learning communities, or online simulations, such as those for which educators could earn professional development credit or continuing education units through Digital Credentials based on demonstrated mastery of competencies and performance-based outcomes, instead of traditional time-based metrics.

Comment: One commenter requested the Department to clarify in subpart (d) that data platforms can also be used to inform and improve learning outcomes.

Discussion: We agree that producing evidence on teaching and learning is not the sole purpose of data platforms, and also agree that the focus of subpart (d) should be to inform and improve learning outcomes.

Changes: We have revised subpart (d) so that it now reads: “Using data platforms that enable the development, visualization, and rapid analysis of data to inform and improve learning outcomes, while also protecting privacy in accordance with applicable laws.”

Comment: One commenter expressed strong support for Priority 11, but stated that an applicant addressing subpart (a) alone should not be recognized as meeting the goal of the priority. Conversely, another commenter said that most schools are behind the technology curve and lack resources for the infrastructure, hardware, software, and professional development that are necessary for educators to incorporate technology into the classroom.

Discussion: We appreciate the commenters' concern. However, we note that, for some schools, projects designed to meet subpart (a) of Priority 11 could represent the first step in leveraging technology. Data provided to the Federal Communications Commission through the ConnectED initiative show a significant need for the types of projects that would be funded under subpart (a). Without access to high-speed Internet and devices, students and educators also do not have access to digital tools and materials in the classroom.

We also note that the Department considers a program's authorizing statute and the types of entities that are eligible to apply when determining whether it is appropriate to select and use a given priority. The Department will not use a priority for a program if it determined that the use of that priority is inconsistent with the program's purpose or would not result in meaningful projects.

Changes: None.

Comment: Multiple commenters expressed support for the Department's reference to, and definition of, OER. Two commenters stated that open licensing of publicly funded educational resources should be made a requirement in all Department programs. One commenter noted that OER can be used to effectively address many of the other proposed priorities, including proposed Priorities 3, 4, 5, and 7.

On the other hand, one commenter expressed concern about the Department giving preference to entities that provide OER, stating that one size does not fit all and that those entities may not understand the teaching and learning experience. The commenter requested that the Department let the market decide which tools are successful.

Discussion: We thank the commenters for their support of the OER definition. Although we encourage OER, its inclusion in these priorities does not require grant recipients to produce or use OER. Therefore, we do not agree with the commenter who suggested that our inclusion of OER would impede the market or result in entities selecting and using tools that are not appropriate for their particular teaching and learning experiences.

It should be noted that the Department has regulations related to products produced with grant funds. Specifically, under 34 CFR 75.621 (Copyright policy for grantees), grantees may copyright intellectual property that they produce with Department grant funds. However, under 34 CFR 74.36 (Intangible property) and 80.34 (Copyrights), the Department retains a non-exclusive and irrevocable license to reproduce, publish, or otherwise use those project materials for government purposes.⁹ This license gives the Department the authority needed to ensure that materials produced as part of Department grant projects can be made available to the public.

⁹ For grants awarded on or after the date on which the Department adopts and makes effective the Uniform Guidance in 2 CFR part 200 (expected on December 26, 2014), 2 CFR 200.315(b) would preserve the Federal government's license that exists under current §§ 74.36 and 80.34.

Changes: None.

Comment: One commenter noted the importance of live-online proctoring and recommended that the Department require authentication procedures that ensure the integrity of online education.

Discussion: We agree that it is important to have methods in place to support the integrity and credibility of online education programs. However, given the variety of applicants and discretionary grant programs that may use this priority, we do not think that it is appropriate to prescribe those methods as part of Priority 11.

Changes: None.

Comment: One commenter stated that technology does not, in and of itself, improve instruction or learning, as it is only a tool used by educators and students. The commenter questioned whether this priority should be included.

Discussion: Although we agree that technology access alone may not improve instruction or learning, when used effectively, technology has the potential to engage students, empower teachers, and connect them to each other and to some of the best resources the world has to offer. These results do have the power to improve instruction and learning and, for that reason, we include this priority to support projects that would leverage technology.

Changes: None.

Priority 12—Promoting Diversity

Comment: One commenter expressed general support for Priority 12 and suggested that we integrate the priority into the other 14 priorities.

Discussion: We thank the commenter and agree that increasing diversity is an important strategy to prepare students to be successful in an increasingly diverse workforce. We note that programs have the flexibility to use several of these priorities in a single competition, as appropriate. The Department has discretion in choosing which priorities they use in a competition in any given year, and those decisions must be made with the program's statutory requirements in mind.

Changes: None.

Comment: One commenter was concerned that we are encouraging the selection and assignment of students based on race and ethnicity in proposed Priority 12. The commenter also indicated that the focus of the Department's 2011 and 2013 guidance on diversity (which was created in cooperation with the Department of Justice (DOJ)) is misplaced, and that we should not encourage schools to adopt diversity policies.

Discussion: We appreciate the commenter's concern, and note that we do not intend for this priority to be used to support projects that select and assign students based solely on race; nor are we requiring schools to adopt particular diversity policies. Rather, our intent for this priority is to promote strategies that prepare students to be successful in the increasingly diverse workforce. We currently support projects that would increase racial, ethnic, and socioeconomic diversity in schools and postsecondary programs; as well as projects that would decrease racial, ethnic, and socioeconomic isolation of students in preschool, elementary, or secondary programs, as appropriate. We intend to use this priority only in discretionary grant programs for which it is useful, relevant, and allowable under the program's authorizing statute.

We also note that the Department's 2011 and 2013 guidance ¹⁰ on diversity was reaffirmed by guidance issued in 2014 ¹¹ by both the Department and DOJ and is consistent with Supreme Court decisions.

¹⁰ Available at: http://www2.ed.gov/about/offices/list/ocr/letters/colleague-201111.html and www.ed.gov/news/press-releases/new-guidance-supports-voluntary-use-race-achieve-diversity-higher-education.

¹¹ Available at: http://www2.ed.gov/about/offices/list/ocr/letters/colleague-201405-schuette-guidance.pdf.

Changes: None.

Comment: One commenter expressed concern that the changes made to Priority 12 from the 2010 Supplemental Priorities, namely the inclusion of socioeconomic diversity, may lead applicants to avoid increasing racial and ethnic diversity. The commenter was also concerned that proposed Priority 12 is no longer aligned with the 2011 and 2013 joint guidance issued by the Department and DOJ. The commenter also noted that the 2010 version of the priority was rarely used in discretionary grant competitions, and asked that we ensure greater use of the proposed priority in the future.

Another commenter asked that we revise proposed Priority 12 so that applicants have greater flexibility to interpret “diversity” in terms of the specific needs of their communities; and a third commenter asked that we include in Priority 12 a focus on disability diversity.

Discussion: We agree that increasing racial and ethnic diversity is important for preparing students for success in an increasingly diverse workforce, and also acknowledge that the 2010 version of this priority was not widely used in the Department's discretionary grant programs. We therefore sought input from stakeholders on how to better frame the priority so that it could be used more broadly. We learned that including a focus on socioeconomic diversity, in addition to racial and ethnic diversity, may facilitate the use of the priority in more discretionary grant programs, and may have the corollary effect of also increasing racial and ethnic diversity in schools and postsecondary programs. Thus, we think that including socioeconomic diversity in Priority 12 may encourage broader use of the priority across our discretionary grant programs while maintaining the original focus on increasing racial and ethnic diversity. We note, however, that we have discretion in choosing which priorities to use in a competition in any given year, and that those decisions must be made in accordance with the program's authorizing statute.

We do not think that revising the priority so that “diversity” could be interpreted with the flexibility proposed by the commenter is appropriate. We think that the focus of the priority should be on increasing racial, ethnic, and socioeconomic diversity. Moreover, we do not think it is appropriate to add disability diversity to Priority 12, and note that we do include a mechanism to otherwise support students with disabilities through Priority 4—Supporting High-Need Students.

Priority 12 is fully consistent with the guidance on diversity issued by the Department and DOJ in 2011 and 2013. We also note that all recipients of Department funds must comply with the nondiscrimination requirements of Title VI of the Civil Rights Act of 1964, Section 504 of the Rehabilitation Act of 1973, Title IX of the Education Amendments of 1972, and the Age Discrimination Act of 1975.

Changes: None.

Comment: One commenter supported Priority 12, and suggested additional edits to further strengthen the priority. For example, the commenter thought that the priority should be structured so that applicants would need to decrease racial, ethnic, and socioeconomic isolation of students in preschool, elementary, or secondary programs, rather than choose one area of focus among the three. The commenter also suggested that we revise the priority so that increasing diversity and decreasing racial isolation would need to be a focus of any project under the priority, regardless of that project's focus on preschool, elementary, secondary, or postsecondary institutions. Finally, the commenter asked that we expand the priority to support projects that would maintain diversity in already diverse districts that may be experiencing demographic shifts.

Discussion: While we agree that increasing socioeconomic diversity may also be an effective strategy for increasing racial and ethnic diversity, we do not think that it is appropriate to require that applicants proposing projects under this priority include strategies for increasing all three types of diversity. We intend for Priority 12 to facilitate its broader use in our discretionary grant programs, so we do not wish to impose further requirements on applicants.

Similarly, we think that preschool and elementary and secondary schools face particular issues of racial, ethnic, and socioeconomic isolation. In an effort to focus the Department's investments in this respect on the areas in most need, we have not edited the priority to include a focus on decreasing racial, ethnic, and socioeconomic isolation in postsecondary programs.

We agree with the commenter that school districts that are already diverse may need support to maintain their diversity in the midst of shifting demographics. However, we do not think that Priority 12 would preclude such a project. We think that an applicant proposing a project of this nature could do so in the context of decreasing racial, ethnic, or socioeconomic isolation.

Changes: None.

Comment: One commenter expressed general support for proposed Priority 12, and suggested that we extend the reach of the priority so that increasing racial, ethnic, and socioeconomic diversity could be a mechanism for increasing secondary and postsecondary completion rates, in addition to increasing enrollment.

Discussion: While we agree with the commenter that completion of secondary and postsecondary programs is an important area, we do not think that Priority 12 is the appropriate place for such a focus. Our intent for Priority 12 is to facilitate a broader focus on diversity in our discretionary grant programs, so we do not wish to impose further limitations on applicants. In addition, we note that Priority 5—Increasing Postsecondary Access, Affordability, and Completion includes two subparts focused on completion of college, other postsecondary programs, or other career and technical education.

Changes: None.

Comment: One commenter requested that we include a focus on supporting the diversity of the teaching workforce.

Discussion: We agree with the commenter that exposing students to teachers from a variety of backgrounds may be an effective way to prepare students for a diverse world of work. However, we do not think that it is appropriate to expand the areas of focus in Priority 12.

Changes: None.

Comment: None.

Discussion: Upon review, we recognized that the language of Priority 12 did not clearly reflect our intention that the increase in diversity needs to occur at the school or program level in order to address the priority. We have made that clarification.

Changes: We have revised Priority 12 so that it now refers to “individual schools or postsecondary programs.”

Priority 13—Improving School Climate, Behavioral Supports, and Correctional Education

Comment: One commenter expressed support for Priority 13, but suggested that we expand it to recognize the causal connection that links poor instruction to inappropriate student behavior.

Discussion: The commenter's hypothesis is reasonable and a project focused on improving instruction to improve student behavior could fall under subpart (a) of Priority 13, which supports projects that improve school climate through strategies that may include Tiered Behavioral Supports. Moreover, we note that the definition of Tiered Behavioral Supports refers to evidence-based supports and data-based strategies. Thus, a strategy that is based on a causal connection to student behavior could be appropriate under this priority.

Changes: None.

Comment: One commenter asked that we include in Priority 13 a focus on youth mentoring as an effective strategy for improving school climate. Two commenters suggested that we focus specifically on increasing student engagement and connectedness. Another commenter asked that we highlight arts programs, citing examples of how they have been shown to improve school climate.

In addition, a few commenters suggested that we include subparts with a wider range of strategies under Priority 13. One commenter suggested that we include a subpart for projects that are designed to improve student outcomes through school-based health clinics and social services, and another asked that we include support for school-based addiction treatment. A third commenter urged the Department to incentivize learning environments that provide real-world experience through project-based or other applied work.

Discussion: We agree that each of the strategies suggested by commenters may be effective in improving school climate. In general, we do not think that it is appropriate to include specific strategies in this priority because we do not want to limit those that applicants could propose to use in their projects. As noted elsewhere, we think that applicants are best-suited to propose appropriate strategies for improving school climate, behavioral supports, and correctional education, with their target populations in mind.

We also note that our definition of Tiered Behavioral Supports now includes a reference to external partners, which may provide some flexibility under subpart (a) of Priority 13 for applicants that propose the strategies described by the commenters. We make this change in order to recognize the unique supports that these partners can offer and note that the rationale for this change to the definition of Tiered Behavioral Supports is set out later in the Analysis of Comments and Changes section of this document.

Finally, regarding the suggestion we address learning environments under this priority, we note that Priority 7—Promoting Science, Technology, Engineering, and Mathematics (STEM) Education includes a focus on Authentic STEM Experiences, which can be laboratory, research-based, or experiential learning opportunities in informal or formal settings. We think that this provision in Priority 7 would allow for project-based and other applied work strategies. Because those learning environments are supported in Priority 7, we do not think it is necessary to revise this priority.

Changes: None.

Comment: A few commenters noted the important role external partners, particularly organizations that provide afterschool and extended learning programs, can play in improving school climate.

Discussion: We agree that coordination between LEAs and external partners can be an effective strategy for improving school climate. We note, however, that these partnerships are often eligible applicants, in their own right, under our discretionary grant programs. It is not necessary to include language that specifically allows for partnerships with community organizations that provide afterschool, extended learning, or other relevant programs, because the priority does not preclude those partnerships from participating in this work.

Changes: None.

Comment: One commenter suggested that we include language in Priority 13 to allow for children in early learning and development programs to benefit from projects addressing this priority.

Discussion: We think that applicants proposing to serve young children could address Priority 13. We also note that we include in Priority 1—Improving Early Learning and Development Outcomes a clear focus on improving outcomes across the Essential Domains of School Readiness, which includes social and emotional development. Projects that are designed to improve such development in young children could likely do so through strategies that are similar to those described in Priority 13. We decline to revise Priority 13 in a manner that would set clear age-group parameters because we think that it could limit the use of the priority.

Changes: None.

Comment: One commenter stressed that we should include in Priority 13 strategies that use family engagement as a mechanism for improving student behavior and strengthening student social, emotional, and behavioral skills.

Discussion: We agree that engaging parents and families in their students' education is important, which is why we include Priority 14—Improving Parent, Family, and Community Engagement. As noted elsewhere, these priorities are intended as a menu of options from which we may choose in administering our discretionary grant programs. We may choose which, if any, of the priorities or subparts are appropriate for competitions under those programs. Thus, we may combine elements of Priority 14 with elements of Priority 13 in one competition, if appropriate and relevant to that program's goals.

Changes: None.

Comment: One commenter expressed support for subpart (b) of Priority 13, which supports projects that reduce or eliminate school discipline disparities between student subgroups, reduce or eliminate the use of exclusionary discipline, and address the causes of those disparities. The commenter suggested that we add to subpart (b) an additional activity that would require applicants to also promote disciplinary practices that are alternatives to exclusionary discipline. Another commenter suggested that we emphasize in subpart (b) the importance of training school personnel to address underlying causes of disparities in school discipline.

Discussion: We agree that it is important for applicants to promote alternative disciplinary practices in addition to reducing or eliminating exclusionary practices. We have therefore edited subpart (b) to include this additional focus.

While we agree with the other commenter that school personnel must have the appropriate knowledge and skills to address disparities in school discipline practices, we think that projects that are designed to address subpart (b) of Priority 13, as proposed, could include a focus on training school personnel in these matters.

Changes: We have revised subpart (b) of Priority 13 to conclude with: “. . . and promoting alternative disciplinary practices that address the disparities.”

Comment: One commenter expressed concern with subpart (b) of Priority 13, which supports projects that reduce or eliminate disparities in school discipline practices for particular groups of students by identifying and addressing the root causes of those disparities. The commenter asserted that disparities exist because some groups of students commit more violations than others.

Discussion: We disagree with the commenter, and note that the Civil Rights Data Collection Issue Brief No. 1 ¹² reported extensively on these disparities. Research suggests that the substantial racial disparities of the kind reflected in the CRDC data are not explained by more frequent or more serious misbehavior by students of color. ¹³ We also want to clarify the purpose of this subpart, which is to better understand the root causes of disparate disciplinary practices and, through that improved understanding, reduce or eliminate disparities in disciplinary practices among student subgroups.

¹² Available at: http://ocrdata.ed.gov/Downloads/CRDC-School-Discipline-Snapshot.pdf.

¹³ Available at: http://www2.ed.gov/about/offices/list/ocr/letters/colleague-201401-title-vi-sp.pdf. (See Footnote 7)

Changes: None.

Comment: One commenter felt that our focus in subpart (c) of Priority 13 was misplaced, and suggested that we restructure the subpart so that projects designed to address it would more clearly support the re-entry process after release from juvenile justice facilities or adult correctional facilities.

Discussion: We thank the commenter for this suggestion and agree that re-entry should be a more prominent focus of subpart (c).

Changes: We have revised subpart (c) of Priority 13 so that it now reads: “Improving the quality of educational programs in juvenile justice facilities (such as detention facilities and secure and non-secure placements) or adult correctional facilities, or supporting re-entry after release, by linking the youth or adults to education or job-training programs.”

Comment: None.

Discussion: Upon review, we determined that subpart (b) should be clarified to acknowledge that efforts to either reduce or eliminate disparities in school disciplinary practices or to reduce or eliminate the use of exclusionary discipline may be alternative goals for projects designed to address Priority 13, and that an individual project need not be designed to achieve both of those goals in order to address the priority. We have made that clarification.

Changes: We have revised subpart (b) so that it now reads: “Reducing or eliminating disparities in school disciplinary practices for particular groups of students, including minority students and students with disabilities, or reducing or eliminating the use of exclusionary discipline (such as suspensions, expulsions, and unnecessary placements in alternative education programs) by identifying and addressing the root causes of those disparities or uses and promoting alternative disciplinary practices that address the disparities or uses.”

Priority 14—Improving Parent, Family, and Community Engagement

Comment: One commenter supported proposed Priority 14, noting that family engagement is important in fostering language and literacy development in young children. A second commenter echoed this idea by asking that we include in subpart (c) of Priority 14 a focus on reducing language barriers between parents or families and school staff. Another commenter also expressed support for this priority and asked that we further strengthen the priority to pay particular attention to the needs of students from low-income families, English learners, and other High-need Students. One commenter noted that Community Engagement and Parent and Family Engagement are very important for student success, and said that it should be ranked higher in the final list of priorities.

Discussion: We thank the commenters for their support for Priority 14. We think that language and literacy outcomes for children and students may be improved through strategies that also improve Parent and Family Engagement in schools. We also agree that language barriers between parents or families and school staff can be difficult to overcome when attempting to engage parents or families in their students' education. However, we do not think that changes to the priority are necessary to allow support for projects that are designed to address these needs. Applicants are best suited to propose projects to address the specific needs of their communities, and we therefore decline to revise the priority in a manner that might limit its use to those applicants that identify language barriers as a prevalent issue.

We also agree that High-need Students may need additional support, and that their parents may be uncomfortable entering their children's schools. Because several of our discretionary grant programs are already targeted on High-need Students, and because we include Priority 4—Supporting High-Need Students, we do not think that adding an additional focus to Priority 14 on High-need Students, is necessary.

Finally, we note that the priorities are not ranked in any particular order. None of the priorities will be used more frequently than others in our discretionary grant programs as a result of where they fall in this list; the Department has discretion in choosing which priorities to use in competitions.

Changes: None.

Comment: A few commenters suggested that we include a more explicit focus in proposed Priority 14 on linking learning in school to learning at home. One commenter noted that including the concept of Systemic Initiatives in subpart (b) of Priority 14 would further emphasize the need to develop and implement systems for promoting family engagement in schools. In addition, two commenters expressed support for proposed Priority 14 and suggested several places—in Priority 14, in the other priorities, and in some definitions—where the Dual Capacity-Building Framework for Family and Community Engagement could be better represented.

Discussion: We agree that an important outcome of improving parent, family, and community engagement is to connect what students learn at school to the resources and support that are available for them at home. We also agree that, in order to do this work well, it is helpful for schools to have systems in place to effectively engage parents and families. For these reasons, we amend subpart (b) of Priority 14.

Changes: We have revised subpart (b) of Priority 14 so that it reads: “. . . to build meaningful relationships with students' parents or families through Systemic Initiatives that may also support students' learning at home.”

Comments: One commenter urged us to restructure Priority 14 to better reflect the Community Engagement or Parent and Family Engagement needs of children beginning at birth. A few other commenters suggested edits to the priority to be more inclusive of early childhood programs.

Discussion: We agree that young children, in addition to students in kindergarten and above, benefit from improved Community Engagement and Parent and Family Engagement, and note that we have made some changes to Priority 1—Improving Early Learning and Development Outcomes, to improve coordination between parents, families, and early childhood educators. We have revised subparts (b) and (c) to allow for support for community-based early learning and development programs. Changes: In subpart (b), we have included references to “program leaders” in addition to school leaders, and also have included “practitioners” in addition to teachers. In subpart (c), we have included “program staff” in addition to school staff. We have made similar changes to the definitions of Community Engagement and Parent and Family Engagement to include both school and program staff.

Comment: One commenter suggested that we add an additional subpart to Priority 14 that would support opportunities for parents, families, and communities to, among other things, build meaningful relationships with professionals, understand fiscal processes, and understand how to use data to drive decision-making. Another commenter suggested specific edits to subpart (a) of Priority 14 to encourage parents' use of technological tools to improve communication.

Discussion: We think that the elements suggested by the first commenter are important, and note that any of these elements could be supported by projects that are designed under subpart (a) of Priority 14. We also note that subpart (c) of Priority 14 allows for broad improvement of Community Engagement. In general, we do not think that it is appropriate to list specific areas of focus beyond what is already discussed in Priority 14, because applicants for discretionary grant programs may wish to propose projects that are designed to support the particular needs of their target populations. We decline to revise the priority in a manner that might limit its use.

We appreciate the second commenter's suggestion to include a focus on technological tools, and have edited subpart (a) to reflect the suggestion.

Changes: In subpart (a) of Priority 14, we have revised the parenthetical list so that it now begins with “including techniques or use of technological tools . . .”

Comments: One commenter expressed support for proposed Priority 14, and noted the important role that afterschool programs can play in improving engagement. Another commenter asked that use of technology be explicitly included as an innovative tool to improve communication with parents and families.

Discussion: We thank the commenters for offering approaches to this work that may be effective. In general, we do not think that it is appropriate to list specific strategies or approaches beyond what is already discussed in Priority 14, because applicants for discretionary grant programs may wish to propose projects designed to support the particular needs of their target populations. We decline to revise the priority in a manner that might limit its potential use.

We note that both afterschool programs and the use of technology could be central elements to a project designed to meet Priority 14, and we think our inclusion of “program,” in addition to “school,” in some subparts and definitions, as discussed above, may facilitate the inclusion of afterschool programs.

Changes: None.

Comment: None.

Discussion: After reviewing Priority 14, we conclude that projects that are designed to address this priority can focus on student outcomes in general, rather than purely academic outcomes. We think that this is appropriate given the types of projects we seek to support under Priority 14, and note that any project that is designed to address this priority could focus on improving student academic outcomes.

Changes: We have removed “academic” from the introductory language of Priority 14.

Priority 15—Supporting Military Families and Veterans

Comment: A few commenters expressed support for proposed Priority 15.

Response: We appreciate the commenters' support.

Changes: None.

Definitions. We discuss and respond to comments received on the proposed definitions in alphabetical order.

Comment: One commenter suggested that we define the term “adult learners” and noted that they make up almost 40 percent of the college-going population.

Discussion: We agree that adult learners are an important group, and note that Priority 5—Increasing Postsecondary Access, Affordability, and Completion includes several mechanisms for supporting adult learners. For example, subpart (d) of Priority 5 focuses on increasing the number of individuals who return to the educational system to obtain a Regular High School Diploma, enroll in and complete postsecondary education, or obtain basic and academic skills. We do not define “adult learners” because we do not include the term in the NFP, but we note that our definitions of both High-need Students and Low-skilled Adult would include the subgroup about which the commenter is concerned.

Changes: None.

Comment: One commenter suggested that we revise the proposed definition of Authentic STEM Experiences to include teacher-led integration of STEM fields within the K-12 setting. Another commenter suggested that we include out-of-school time programs and summer camp programs in the definition.

Discussion: While we think that each commenter's suggestion is important and could be useful for some applicants, we do not think that the definition of Authentic STEM Experiences precludes an applicant from using any of the strategies or programs discussed above.

Changes: None.

Comment: A few commenters expressed support for the proposed definition of Community Engagement and asked that we include specific types of organizations in the definition. One commenter noted the important role that public media can play in fostering engagement, and another asked that museums, cultural organizations, and other art venues be highlighted in the definitions of Community Engagement and Sustained Partnerships.

Another commenter suggested that we revise the proposed definition of Community Engagement to include examples of systematic inclusion.

Discussion: We agree that several types of organizations, in addition to those listed in the definitions of Community Engagement and Sustained Partnerships, may play integral roles in projects to improve Community Engagement or Parent and Family Engagement. We note that our definition of Community Engagement includes an illustrative list of organizations that may partner with SEAs, LEAs, or other educational institutions, and that other organizations not specifically listed in the definition could also be appropriate partners, depending on the scope of a proposed project. Our definition of Sustained Partnerships includes a similar list, but is not structured in a way that provides for flexible interpretation. We therefore restructure that definition to reflect the structure of the Community Engagement definition, so that applicants may include other organizations in addition to those listed as examples in the definition.

Finally, we agree with the commenter that including examples of systematic inclusion may be helpful, and have revised the definition of Community Engagement to include an illustrative list of possible ways to systematically include community organizations as partners with SEAs, LEAs, or other educational institutions, or their school or program staff.

Changes: We have included in the definition of Community Engagement the following strategies as possible ways to achieve systemic inclusion: “Developing a shared community vision, establishing a shared accountability agreement, participating in shared data collection and analysis, or establishing community networks that are focused on shared community-level outcomes.” We have also revised the definition of Sustained Partnerships to make the list of possible partner organizations illustrative rather than complete.

Comment: One commenter identified technical errors in the proposed definitions of Community Engagement and Sustained Partnerships. First, the commenter asserted that Title III of the Higher Education Act of 1965 (HEA) does not authorize grants to IHEs generally; rather, it authorizes Federal assistance to certain types of institutions. Second, the commenter noted that Hispanic-serving institutions are eligible for assistance under Title V, not Title III, of the HEA and that, without specific mention of Title V in our definitions of Community Engagement and Sustained Partnerships, those institutions would not be included. Finally, the commenter stated that historically black colleges and universities (HBCUs) are a type of minority-serving institution (MSI), and are eligible for assistance under Title III of the HEA. Because HBCUs are a type of MSI that is authorized to receive assistance under Title III, it is not necessary to mention them in addition to MSIs.

Discussion: We thank the commenter for pointing out these errors. We have revised the definitions of Community Engagement and Sustained Partnerships to ensure that the HEA is cited properly, that Hispanic-serving institutions are included, and that we do not include redundant references to specific types of MSIs.

Changes: In the definitions of Community Engagement and Sustained Partnerships, we have amended our reference to the HEA so that it includes Title III and Title V. We have also deleted specific reference to HBCUs.

Comment: One commenter suggested that we add language to the proposed definitions of Community Engagement and Parent and Family Engagement to indicate that the goal of such engagement must be to improve student academic and other related outcomes. Another commenter asked that our definitions of Community Engagement and Parent and Family Engagement require that inclusion of community organizations be not only systematic, but sustained over time.

Discussion: We think that it is important that projects supported by the Department generally be designed to support students. As proposed, any project addressing Priority 14 must be designed to improve student academic outcomes through strategies supporting Community Engagement or Parent and Family Engagement. Therefore, we do not think that it is necessary to include an additional focus on improving student academic outcomes in the definitions of Community Engagement and Parent and Family Engagement.

We think that the issue of sustaining strong partnerships is an important one. However, we think that by requiring grantees to systematically include community organizations in their work, through the definitions, sustainable partnerships could happen organically. We also think that requiring a focus on sustained inclusion may disadvantage an applicant that is implementing those strategies for the first time.

Changes: None.

Comment: One commenter suggested that we include “validating credentials” in the definition of Employer Engagement to signal the importance of ensuring that credentials provided by training programs are those needed for in-demand jobs. Another commenter suggested that we include, in the definition of Employer Engagement, a focus on encouraging employers to actively recruit Low-skilled Adults and High-need Students. A third commenter thought that it was important to include potential employers in the definition to more fully reflect the economic challenges that rural communities face.

Discussion: We agree that validating credentials is an important part of Employer Engagement and we have edited the definition to reflect that. We decline to make the change recommended by the second commenter because the definition of Employer Engagement is focused on ways in which employers can be involved in the design and delivery of education and training programs, rather than activities that seek to influence how and who employers hire. One intended result of greater Employer Engagement, however, is that education and training programs will be more successful in preparing and placing Low-skilled Adults and High-need Students in employment.

With regard to the third commenter's suggestion, we decline to make the change because the goal of subpart (a) of Priority 6, which is increasing Employer Engagement, is to encourage education and training programs to engage with entities that hire workers so that these programs can prepare individuals for in-demand jobs. Engaging with an entity that merely has the “potential” to hire workers sometime in the future would not advance this goal.

Changes: We have included in the definition of Employer Engagement the phrase “validating credentials” as a way in which employers may demonstrate active involvement.

Comment: One commenter asked that creative arts expression be included in the definition of Essential Domains of School Readiness, so that the definition would align with the Strong Start for America's Children Act of 2013.

Discussion: We appreciate the commenter's suggestion and have edited the definition of Essential Domains of School Readiness to align with the Strong Start for America's Children Act of 2013 and with the Department's Preschool Development Grants program.

Changes: We have edited the definition of Essential Domains of School Readiness so that it is aligned with the Strong Start for America's Children Act of 2013 and with the Department's Preschool Development Grants program.

Comment: One commenter asked that we include a definition of “graduation rate,” and suggested that it be consistent with the definition in 34 CFR 200.19(b)(1).

Discussion: The term “graduation rate” is not included in the Supplemental Priorities so we think it is unnecessary to define it.

Changes: None.

Comment: Several commenters requested that the Department add more student groups to the illustrative list that is included in the definition of High-need Students. Specifically, commenters asked that vulnerable students, students with multiple disciplinary incidents, chronically absent students, students with low-level literacy achievement, and new immigrants be explicitly listed as examples in the definition of High-need Students. One commenter suggested that the Department change “such as” to “and” so that, in order to meet the definition of High-need Students, the students would need to be among one of the listed groups.

Discussion: So long as the students are at risk of educational failure or otherwise in need of special assistance, the definition of High-need Students could include the groups of students suggested by the commenters. Applicants are not limited by the examples provided in the definition. We think that it is important that an applicant have the discretion to determine which students are at risk of educational failure, and to discuss how the proposed project will meet the needs of those students.

Also, it should be noted that this definition is consistent with the existing definition of this term that is used by Department programs, such as the Investing in Innovation Fund. Although we agree with the commenters that additional groups of students may be considered High-need Students, we think that it is important for the Department to be consistent in defining this term.

Changes: None.

Comment: Two commenters questioned the differences between the definitions of Children with High Needs and High-need Students. One commenter suggested defining “low income” in the definition of Children with High-needs and suggested using “children from low-income families” in both definitions.

Discussion: Because Children with High Needs, as we define that term, are not yet in school, an exact alignment between these two terms is not appropriate (for example, Children with High Needs do not attend school and, thus, cannot attend High-minority Schools). Further, we note that the terms Children with High Needs and High-need Students are currently used in other Department programs (such as Race to the Top—Early Learning Challenge and the Investing in Innovation Fund); and we think that it is important for the Department to be consistent in defining these terms.

Changes: None.

Comment: Several commenters expressed concerns with the definitions of High-quality Teacher Evaluation and Support System and High-quality Principal Evaluation and Support system.

Specifically, one commenter was concerned that the definition of High-quality Teacher Evaluation and Support System would not allow for fair and appropriate assessment of early career teachers, for whom there may not be sufficient Student Growth data available. One commenter thought that we did not include a formative assessment component, teacher buy-in and collective bargaining rights were not adequately reflected, our use of the phrase “significant factor” with respect to using Student Growth to inform assessments of teacher performance was unclear, and that States may unfavorably interpret the term “significant” when measuring Student Growth. Another commenter asked that we clarify that, under the proposed definition, teachers would be evaluated only for subjects they teach.

Commenters expressed similar concerns about the definition of High-quality Principal Evaluation and Support System. In particular, one commenter was concerned with using Student Growth as a significant factor in evaluating principal performance, because teachers have a larger impact on student performance than principals.

Discussion: We thank the commenters for their thoughtful consideration of both definitions. These definitions are aligned with Department guidance to States on ESEA flexibility waivers, which we think is appropriate.

To address some of the specific concerns of the commenters, we note that both definitions refer to regularly scheduled evaluations and clear and timely feedback. We think that these provisions speak clearly to the need for formative assessments. We also note that both high-quality teacher and principal evaluation and support systems must, as defined, be developed with teacher and principal involvement. We think that teacher buy-in is an integral piece in developing and implementing high-quality evaluation and support systems, and the definitions do not affect collective bargaining rights or agreements.

Changes: None.

Comment: Two commenters suggested that we expand the definition of Low-skilled Adult. One commenter asked that we include adults who are not fluent in English and who may also be illiterate in their native language. Another commenter suggested that we include adults who do not have a high school diploma (or its recognized equivalent) or the postsecondary credential or degree necessary to obtain employment.

Discussion: We agree that the groups of individuals described by the commenters may need targeted support to succeed in the workforce. We note, however, that these groups would be included in our definition of High-need Students, and that Low-skilled Adults and High-need Students are referenced specifically in subparts (b) and (c) of Priority 6—Improving Job-Driven Training and Employment Outcomes. The Department does not need to amend the definition of Low-skilled Adult in order for those groups identified by the commenters to be incorporated under the priorities because those groups would be appropriately categorized as High-need Students and could be supported by projects designed to address those subparts.

Changes: None.

Comment: Two commenters suggested edits to the definition of Military- or Veteran-connected Student. One commenter suggested that we revise the definition to include children of military families who do not reside on military bases and children of veterans. Another commenter asked that we include a focus on children with high needs, including children with disabilities.

Discussion: The definition of Military- or Veteran-connected Student encompasses all of the groups described by the commenters. The definition does not prescribe where students must live in order to be categorized as military- or veteran-connected. A High-need Student could be included in the definition as long as that student has a parent or guardian who is a member of the uniformed services, the student is a member of the uniformed services, or the student has a parent or guardian who is a veteran. Children of veterans are clearly included in subpart (c) of the definition.

Changes: None.

Comment: One commenter suggested revisions to the definition of Parent and Family Engagement so that it would include activities that take place prior to school entry, beginning at the prenatal period. Another commenter suggested that we include in the definition a focus on engaging parents and families as their children transition from early learning and development programs to kindergarten, and connecting those parents and families to appropriate social services.

Discussion: We appreciate the commenter's suggestions, and edit the definition to include a focus on program staff, in addition to school staff, which significantly broadens the scope of the definition. We do not think it is appropriate to further broaden the definition.

We appreciate the commenter's suggestion to include supports for parents and families as their children transition from early learning and development programs to kindergarten. We note that we have revised subpart (c) of Priority 1—Improving Early Learning and Development Outcomes so that applicants addressing this subpart must weave Parent and Family Engagement into a project designed to improve transitions for children across the birth-through-third-grade continuum. Therefore, we do not think that the changes suggested by the commenter are necessary.

Changes: We have revised the definition of Parent and Family Engagement to include program staff, in addition to school staff.

Comment: One commenter suggested edits to the definition of Persistently-lowest Achieving School.

Discussion: This definition is widely used across the Department, and amendments to the definition would have implications for any discretionary grant program that wishes to use the priorities that include this definition.

Changes: None.

Comment: A few commenters suggested revisions to the proposed definition of Personalized Learning. One commenter suggested clarifying the term so that both scope and sequence of instruction can be tailored to individual learners. One commenter stated that the second sentence in the proposed definition be deleted, because the objectives and content of the instruction should not vary from college- and career-ready standards.

One commenter stated that the definition is too broad, and requested the Department to identify the specific interventions that would be included or excluded. Another commenter recommended that the definition be strengthened through the specific inclusion of supports for student engagement in Personalized Learning environments.

One commenter suggested that we amend the definition to clarify that the role of digital tools and technology is to use data and student engagement as the driving forces in Personalized Learning. One commenter recommended explaining in the definition that data from Personalized Learning should be used to create a feedback loop between students, their parents, and their teachers. Another commenter stated that data should always be used to improve learning and instruction in Personalized Learning.

Discussion: Many of the commenters' suggestions are captured in the definition of Personalized Learning. For example, “scope” and “sequence” are consistent with the definition's reference to learning objectives, content, learning activities, and pace varying depending on a learner's needs. Regarding the comment that learning objectives and content should not vary by learner, we note that learning objectives differ from standards. A learning objective is aligned with college- and career-ready standards, but the specific learning objective or content in which a learner focuses in a given lesson may vary based on that learner's needs and mastery at a given point in time. Thus, we decline to remove the references to learning objectives and content.

We do not want to revise the definition in a manner that would prescribe specific approaches to Personalized Learning. For that reason, we decline to list specific interventions or supports that may or may not be used to implement Personalized Learning approaches. Also, although we agree that digital tools and technology are valuable tools, we do not want to prescribe or limit the types of tools that may be used under the definition of Personalized Learning.

We agree with commenters that available data should be used in Personalized Learning approaches and that data are most helpful when supporting a feedback loop between students, their parents, and their teachers. We think that the definition of Personalized Learning is consistent with these activities and that a revision is not necessary.

Changes: None.

Comment: One commenter suggested that we include “relevant external partners” as part of the definition of Tiered Behavioral Supports, noting that external partners can play an important role in matching intensive supports to student needs.

Discussion: We agree with the commenter and have included the suggested phrase in the definition.

Changes: We have revised the definition of Tiered Behavioral Supports so that it now reads: “. . . a continuum of increasingly intensive and evidence-based social, emotional, and behavioral supports, including a framework of universal strategies for students, school staff, and relevant external partners to promote positive behavior and data-based strategies for matching more intensive supports to individual student needs.”

Comment: None.

Discussion: After review, we determined that the definition of Student Achievement was not fully aligned with the definition of that term included in the Race to the Top (RTT) program. Specifically, the definition in the NPP would require applicants to measure student achievement for grades and subjects that require assessment under the ESEA through both student scores and other measures of student learning. The RTT program, however, requires only that student scores be used to inform student achievement. Other measures may be used as appropriate.

Changes: We have revised the definition of Student Achievement to clarify that other measures of student learning may be used, as appropriate, to determine student achievement in grades and subjects for which assessments are required under the ESEA.

Final Priorities

The Secretary establishes the following priorities and related definitions for use in any appropriate discretionary grant competitions in FY 2015 and future years. These priorities and definitions replace the supplemental priorities and definitions that were published in 2010.

Priority 1—Improving Early Learning and Development Outcomes

Projects that are designed to improve early learning and development outcomes across one or more of the Essential Domains of School Readiness for children from birth through third grade (or for any age group within this range) through a focus on one or more of the following:

(a) Increasing access to high-quality early learning and development programs and comprehensive services, particularly for Children with High Needs.

(b) Improving the quality and effectiveness of the early learning workforce so that early childhood educators, including administrators, have the knowledge, skills, and abilities necessary to improve young children's health, social-emotional, and cognitive outcomes.

(c) Improving the coordination and alignment among early learning and development systems and between such systems and elementary education systems, including coordination and alignment in engaging and supporting families and improving transitions for children along the birth-through-third-grade continuum, in accordance with applicable privacy laws.

(d) Including preschool, whether offered in school or community-based settings, as part of elementary education programs and systems in order to expand opportunities for preschool students and teachers.

(e) Sustaining improved early learning and development outcomes throughout the early elementary school years.

Priority 2—Influencing the Development of Non-Cognitive Factors

Projects that are designed to improve students' mastery of non-cognitive skills and behaviors (such as academic behaviors, academic mindset, perseverance, self-regulation, social and emotional skills, and approaches toward learning strategies) and enhance student motivation and engagement in learning.

Priority 3—Promoting Personalized Learning

Projects that are designed to improve student academic outcomes and close academic opportunity or attainment gaps through one or both of the following:

(a) Implementing Personalized Learning approaches that will ensure appropriate support and produce academic excellence for all students.

(b) Awarding credit or Digital Credentials based on Personalized Learning or adaptive assessments of academic performance, cognitive growth, or behavioral improvements and aligned with college- and career-ready standards.

Priority 4—Supporting High-Need Students

(a) Projects that are designed to improve:

(i) Academic outcomes;

(ii) Learning environments; or

(iii) Both,

(b) For one or more of the following groups of students:

(i) High-need Students.

(ii) Students served by Rural Local Educational Agencies.

(iii) Students with disabilities.

(iv) English learners.

(v) Students in Lowest-performing Schools.

(vi) Students who are living in poverty and are served by schools with high concentrations of students living in poverty.

(vii) Disconnected Youth or migrant youth.

(viii) Low-skilled Adults.

(ix) Students who are members of federally recognized Indian tribes.

Priority 5—Increasing Postsecondary Access, Affordability, and Completion

Projects that are designed to address one or more of the following:

(a) Reducing the net cost, median student loan debt, and likelihood of student loan default for High-need Students who enroll in college, other postsecondary education, or other career and technical education.

(b) Increasing the number and proportion of High-need Students who are academically prepared for, enroll in, or complete on time college, other postsecondary education, or other career and technical education.

(c) Increasing the number and proportion of High-need Students who, through college preparation, awareness, recruitment, application, selection, and other activities and strategies, enroll in or complete college, other postsecondary education, or other career and technical education.

(d) Increasing the number of individuals who return to the educational system to obtain a Regular High School Diploma or its recognized equivalent; enroll in and complete college, other postsecondary education, or career and technical training; or obtain basic and academic skills that they need to succeed in college, other postsecondary education, other career and technical education, or the workforce.

(e) Increasing the number and proportion of High-need Students, particularly Low-skilled Adults, individuals with disabilities, and Disconnected Youth or youth who are at risk of becoming disconnected, who enroll in and complete postsecondary programs.

(f) Supporting the development and implementation of high-quality online or hybrid credit-bearing and accessible learning opportunities that reduce the cost of higher education, reduce time to degree completion, or allow students to progress at their own pace.

Priority 6—Improving Job-Driven Training and Employment Outcomes

Projects that are designed to improve job-driven training and employment outcomes through a focus on one or more of the following:

(a) Increasing Employer Engagement.

(b) Providing work-based learning opportunities (such as Registered Apprenticeships, other apprenticeships, internships, externships, on-the-job training, co-operative learning, practica, and work experience) for Low-skilled Adults or other High-need Students.

(c) Integrating education and training into a career pathways program or system that offers connected education and training (such as education and training programs offered by community colleges or other institutions of higher education), related Stackable Credentials, and support services that enable Low-skilled Adults or other High-need Students to obtain industry-recognized credentials and obtain employment within an occupational area with the potential to advance to higher levels of education and employment in that area.¹⁴

¹⁴ Examples of such integration include partnering or coordinating with other programs that provide job training and employment services, including American Job Centers and other programs authorized by the Workforce Investment Act or the Workforce Innovation and Opportunity Act.

(d) Providing Labor Market Information, career information, advising, counseling, job search assistance, and other supports, such as performance-based or other income supports or stipends, transportation and child care assistance and information, that facilitate credential attainment, employability, and job tenure.

(e) Using Labor Market Information to inform the focus of programs and to guide jobseekers in choosing the types of employment or fields of study, training, or credentials to pursue.

(f) Improving the knowledge and skills of service providers that will enable the providers to better assist their customers to obtain the competencies and job skills that are needed in the competitive labor market.

Priority 7—Promoting Science, Technology, Engineering, and Mathematics (STEM) Education

Projects that are designed to improve Student Achievement or other related outcomes by addressing one or more of the following:

(a) Increasing the preparation of teachers or other educators in STEM subjects through activities that may include building content knowledge and pedagogical content knowledge, and increasing the number and quality of Authentic STEM Experiences.

(b) Providing students with increased access to rigorous and engaging STEM coursework and Authentic STEM Experiences that may be integrated across multiple settings.

(c) Identifying and implementing instructional strategies, systems, and structures that improve postsecondary learning and retention, resulting in completion of a degree in a STEM field.

(d) Increasing the number of individuals from groups that have been historically under-represented in STEM, including minorities, individuals with disabilities, and women, who are provided with access to rigorous and engaging coursework in STEM or who are prepared for postsecondary study and careers in STEM.

(e) Supporting local or regional partnerships to give students access to real-world STEM experiences and to give educators access to high-quality STEM-related professional learning.

Priority 8—Implementing Internationally Benchmarked College- and Career-Ready Standards and Assessments

Projects that are designed to support the implementation of, and transition to, internationally benchmarked college- and career-ready standards and assessments, including projects in one or more of the following:

(a) Developing and implementing student assessments (such as formative assessments, interim assessments, and summative assessments) or performance-based tools that are aligned with those standards, that are accessible to all students.

(b) Developing and implementing teacher or principal professional development or preparation programs that are aligned with those standards.

(c) Developing and implementing strategies that use the standards and information from assessments to inform classroom practices that meet the needs of all students.

Priority 9—Improving Teacher Effectiveness and Promoting Equitable Access to Effective Teachers

Projects that are designed to address one or more of the following:

(a) Increasing the number and percentage of effective teachers in Lowest-performing Schools, schools in Rural Local Educational Agencies, or schools with high concentrations of students from low-income families and minority students, through such activities as:

(i) Improving the preparation, recruitment, selection, and early career development of teachers; implementing performance-based certification systems; reforming compensation and advancement systems; and reforming hiring timelines and systems.

(ii) Improving the retention of effective teachers through such activities as creating or enhancing opportunities for teachers' professional growth; delivering professional development to teachers that is relevant, effective, and outcome-oriented; reforming compensation and advancement systems; and improving workplace conditions to create opportunities for successful teaching and learning.

(b) Promoting equitable access to effective teachers for students from low-income families and minority students across and within schools and districts.

For the purposes of this priority, teacher effectiveness must be measured using a High-quality Teacher Evaluation and Support System.

Priority 10—Improving the Effectiveness of Principals ¹⁵

¹⁵ For the purpose of this priority, the term “principal” also refers to an assistant principal.

Projects that are designed to increase the number and percentage of highly effective principals by addressing one or more of the following:

(a) Creating or expanding practices and strategies to recruit, select, prepare, and support talented individuals to lead and significantly improve instruction in Lowest-performing Schools, schools in Rural Local Educational Agencies, or schools with high concentrations of High-need Students.

(b) Identifying, implementing, and supporting policies and school and district conditions that facilitate efforts by principals to turn around Lowest-performing Schools.

(c) Creating or expanding principal preparation programs that include clinical experiences, induction and other supports for program participants, strategies for tracking the effect that program graduates have on teaching and learning, and coursework that is aligned with pre-kindergarten through grade 12 college- and career-ready standards.

(d) Implementing professional development for current principals, especially in Lowest-performing Schools, that is designed to improve teacher and student learning by supporting principals in their mastery of essential instructional and organizational leadership skills.

(e) Implementing practices or strategies that support districts in hiring, evaluating, supporting, and retaining effective principals.

For the purposes of this priority, principal effectiveness must be measured using a High-quality Principal Evaluation and Support System.

Priority 11—Leveraging Technology To Support Instructional Practice and Professional Development

Projects that are designed to leverage technology through one or more of the following:

(a) Using high-speed Internet access and devices to increase students' and educators' access to high-quality accessible digital tools, assessments, and materials, particularly Open Educational Resources.

(b) Implementing high-quality accessible digital tools, assessments, and materials that are aligned with rigorous college- and career-ready standards.

(c) Implementing high-quality, accessible online courses, online learning communities, or online simulations, such as those for which educators could earn professional development credit or continuing education units through Digital Credentials based on demonstrated mastery of competencies and performance-based outcomes, instead of traditional time-based metrics.

(d) Using data platforms that enable the development, visualization, and rapid analysis of data to inform and improve learning outcomes, while also protecting privacy in accordance with applicable laws.

Priority 12—Promoting Diversity

Projects that are designed to prepare students for success in an increasingly diverse workforce and society by increasing the diversity, including racial, ethnic, and socioeconomic diversity, of students enrolled in individual schools or postsecondary programs; or, in the case of preschool, elementary, or secondary programs, decreasing the racial, ethnic, or socioeconomic isolation of students who are served by the project.

Priority 13—Improving School Climate, Behavioral Supports, and Correctional Education

Projects that are designed to improve student outcomes through one or more of the following:

(a) Improving school climate through strategies that may include establishing Tiered Behavioral Supports or strengthening student social, emotional, and behavioral skills.

(b) Reducing or eliminating disparities in school disciplinary practices for particular groups of students, including minority students and students with disabilities, or reducing or eliminating the use of exclusionary discipline (such as suspensions, expulsions, and unnecessary placements in alternative education programs) by identifying and addressing the root causes of those disparities or uses and promoting alternative disciplinary practices that address the disparities or uses.

(c) Improving the quality of educational programs in juvenile justice facilities (such as detention facilities and secure and non-secure placements) or adult correctional facilities, or supporting re-entry after release, by linking the youth or adults to education or job training programs.

Priority 14—Improving Parent, Family, and Community Engagement

Projects that are designed to improve student outcomes through one or more of the following:

(a) Developing and implementing Systemic Initiatives to improve Parent and Family Engagement by expanding and enhancing the skills, strategies, and knowledge (including techniques or use of technological tools needed to effectively communicate, advocate, support, and make informed decisions about the student's education) of parents and families.

(b) Providing professional development that enhances the skills and competencies of school or program leaders, principals, teachers, practitioners, or other administrative and support staff to build meaningful relationships with students' parents or families through Systemic Initiatives that may also support students' learning at home.

(c) Implementing initiatives that improve Community Engagement, the relationships between parents or families and school or program staff by cultivating Sustained Partnerships.

Priority 15—Supporting Military Families and Veterans

Projects that are designed to address the needs of Military- or Veteran-connected Students.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Definitions

Authentic STEM experiences means laboratory, research-based, or experiential learning opportunities in a STEM (science, technology, engineering, and mathematics) subject in informal or formal settings.

Children with high needs means children from birth through kindergarten entry who are from low-income families or otherwise in need of special assistance and support, including children who have disabilities or developmental delays; who are English learners; who reside on “Indian lands” as that term is defined by section 8013(7) of the Elementary and Secondary Education Act of 1965, as amended (ESEA); who are migrant, homeless, or in foster care; and who are other children as identified by the State.

Community engagement means the systematic inclusion of community organizations as partners with State educational agencies, local educational agencies, or other educational institutions, or their school or program staff to accomplish activities that may include developing a shared community vision, establishing a shared accountability agreement, participating in shared data-collection and analysis, or establishing community networks that are focused on shared community-level outcomes. These organizations may include faith- and community-based organizations, institutions of higher education (including minority-serving institutions eligible to receive aid under Title III or Title V of the Higher Education Act of 1965), businesses and industries, labor organizations, State and local government entities, or Federal entities other than the Department.

Digital credentials means evidence of mastery of specific competencies or performance-based abilities, provided in digital rather than physical medium (such as through digital badges). These digital credentials may then be used to supplement or satisfy continuing education or professional development requirements.

Disconnected youth means low-income individuals, ages 14-24, who are homeless, are in foster care, are involved in the justice system, or are not working or not enrolled in (or at risk of dropping out of) an educational institution.

Employer engagement means the active involvement of employers, employer associations, and labor organizations in identifying skills and competencies, validating credentials, designing programs, offering real workplace problem sets, facilitating access to leading-edge equipment and facilities, providing “return to work”-type professional development opportunities for faculty, and providing work-based learning and mentoring opportunities for participants.

Essential domains of school readiness means the domains of language and literacy development, cognition and general knowledge (including early mathematics and early scientific development), approaches toward learning (including the utilization of the arts), physical well-being and motor development (including adaptive skills), and social and emotional development.

High-minority school means a school as that term is defined by a local educational agency (LEA), which must define the term in a manner consistent with its State's Teacher Equity Plan, as required by section 1111(b)(8)(C) of the Elementary and Secondary Education Act of 1965, as amended (ESEA). The applicant must provide the definition(s) of High-minority Schools used in its application.

High-need students means students who are at risk of educational failure or otherwise in need of special assistance and support, such as students who are living in poverty, who attend High-minority Schools, who are far below grade level, who have left school before receiving a Regular High School Diploma, who are at risk of not graduating with a diploma on time, who are homeless, who are in foster care, who have been incarcerated, who have disabilities, or who are English learners.

High-quality teacher evaluation and support system means a system that provides for continuous improvement of instruction; differentiates performance using at least three performance levels; uses multiple valid measures to determine performance levels, including data on Student Growth as a significant factor and other measures of professional practice; evaluates teachers on a regular basis; provides clear and timely feedback that identifies needs and guides professional development; is developed with teacher and principal involvement; and is used to inform personnel decisions.

High-quality principal evaluation and support system means a system that provides for continuous improvement of instruction; differentiates performance using at least three performance levels; uses multiple valid measures to determine performance levels, including data on Student Growth as a significant factor and other measures of professional practice; evaluates principals on a regular basis; provides clear and timely feedback that identifies needs and guides professional development; is developed with teacher and principal involvement; and is used to inform personnel decisions.

Labor market information means data on current and projected local, regional, State, and national labor markets, such as the number and type of available jobs, future demand, job characteristics, training and skills requirements, and the composition, characteristics, and skills of the labor force.

Low-skilled adult means an adult with low literacy and numeracy skills.

Lowest-performing schools means—

For a State with an approved request for flexibility under the Elementary and Secondary Education Act of 1965, as amended (ESEA, Priority Schools or Tier I and Tier II Schools that have been identified under the School Improvement Grants program.

For any other State, Tier I and Tier II Schools that have been identified under the School Improvement Grants program.

Military- or veteran-connected student means—

(a) A child participating in an early learning and development program, a student enrolled in preschool through grade 12, or a student enrolled in postsecondary education or career and technical training who has a parent or guardian who is a member of the uniformed services (as defined by 37 U.S.C. 101, in the Army, Navy, Air Force, Marine Corps, Coast Guard, National Guard, National Oceanic and Atmospheric Administration, or Public Health Service);

(b) A student who is a member of the uniformed services, a veteran of the uniformed services, or the spouse of a service member or veteran; or

(c) A child participating in an early learning and development program or a student enrolled in preschool through grade 12 who has a parent or guardian who is a veteran of the uniformed services (as defined by 37 U.S.C. 101).

Open educational resources means teaching, learning, and research resources that reside in the public domain or have been released under an intellectual property license that permits their free use and repurposing by others.

Parent and family engagement means the systematic inclusion of parents and families, working in partnership with State educational agencies (SEAs), State lead agencies (under Part C of the Individuals with Disabilities Education Act (IDEA) or the State's Race to the Top-Early Learning Challenge grant), local educational agencies (LEAs), or other educational institutions, or their staff, in their child's education, which may include strengthening the ability of (a) parents and families to support their child's education; and (b) school or program staff to work with parents and families.

Persistently-lowest achieving school means, as determined by the State—

(a)(1) Any Title I school that has been identified for improvement, corrective action, or restructuring under section 1116 of the Elementary and Secondary Education Act of 1965, as amended (ESEA) and that—

(i) Is among the lowest-achieving five percent of Title I schools in improvement, corrective action, or restructuring or the lowest-achieving five Title I schools in improvement, corrective action, or restructuring in the State, whichever number of schools is greater; or

(ii) Is a high school that has had a graduation rate, as defined in 34 CFR 200.19(b), that is less than 60 percent over a number of years; and

(2) Any secondary school that is eligible for, but does not receive, Title I funds that—

(i) Is among the lowest-achieving five percent of secondary schools or the lowest-achieving five secondary schools in the State that are eligible for, but do not receive, Title I funds, whichever number of schools is greater; or

(ii) Is a high school that has had a graduation rate, as defined in 34 CFR 200.19(b), that is less than 60 percent over a number of years.

(b) To identify the lowest-achieving schools, a State must take into account both—

(i) The academic achievement of the “all students” group in a school in terms of proficiency on the State's assessments under section 1111(b)(3) of the Elementary and Secondary Education Act of 1965, as amended (ESEA), in reading/language arts and mathematics combined; and

(ii) The school's lack of progress on those assessments over a number of years in the “all students” group.

Personalized learning means instruction that is aligned with rigorous college- and career-ready standards so that the pace of learning and the instructional approach are tailored to the needs of individual learners. Learning objectives and content, as well as the pace, may all vary depending on a learner's needs. In addition, learning activities are aligned with specific interests of each learner. Data from a variety of sources (including formative assessments, student feedback, and progress in digital learning activities), along with teacher recommendations, are often used to personalize learning.

Priority schools means schools that, based on the most recent data available, have been identified as among the lowest-performing schools in the State. The total number of Priority Schools in a State must be at least five percent of the Title I schools in the State. A priority school is—

(a) A school among the lowest five percent of Title I schools in the State based on the achievement of the “all students” group in terms of proficiency on the statewide assessments that are part of the SEA's differentiated recognition, accountability, and support system, combined, and has demonstrated a lack of progress on those assessments over a number of years in the “all students” group;

(b) A Title I-participating or Title I-eligible high school with a graduation rate that is less than 60 percent over a number of years; or

(c) A Tier I or Tier II school under the School Improvement Grant (SIG) program that is using SIG funds to implement a school intervention model.

Regular high school diploma means the standard high school diploma that is awarded to students in the State and that is fully aligned with the State's academic content standards or a higher diploma and does not include a General Education Development (GED) credential, certificate of attendance, or any alternative award.

Rural local educational agency means a local educational agency (LEA) that is eligible under the Small Rural School Achievement (SRSA) program or the Rural and Low-Income School (RLIS) program authorized under Title VI, Part B of the Elementary and Secondary Education Act of 1965, as amended (ESEA). Eligible applicants may determine whether a particular LEA is eligible for these programs by referring to information on the Department's Web site at www2.ed.gov/nclb/freedom/local/reap.html.

Stackable credentials means credentials that are part of a sequence of credentials that can be accumulated over time to increase an individual's qualifications and help him or her to advance along a career pathway to different and potentially higher-paying jobs.

Student achievement means—

For grades and subjects in which assessments are required under section 1111(b)(3) of the Elementary and Secondary Act of 1965, as amended (ESEA): (1) A student's score on such assessments; and, as appropriate (2) other measures of student learning, such as those described in the subsequent paragraph, provided that they are rigorous and comparable across schools within a local educational agency (LEA).

For grades and subjects in which assessments are not required under section 1111(b)(3) of the ESEA: (1) Alternative measures of student learning and performance, such as student results on pre-tests, end-of-course tests, and objective performance-based assessments; (2) student learning objectives; (3) student performance on English language proficiency assessments; and (4) other measures of student achievement that are rigorous and comparable across schools within an LEA.

Student growth means the change in Student Achievement for an individual student between two or more points in time.

Sustained partnership means a relationship that has demonstrably adequate resources and other support to continue beyond the funding period and that consist of community organizations as partners with a local educational agency and one or more of its schools. These organizations may include faith- and community-based organizations, institutions of higher education (including minority-serving institutions eligible to receive aid under Title III or Title V of the Higher Education Act of 1965 (HEA)), businesses and industries, labor organizations, State and local government entities, or Federal entities other than the Department.

Systemic initiative means a policy, program, or activity that includes Parent and Family Engagement as a core component and is designed to meet critical educational goals, such as school readiness, Student Achievement, and school turnaround.

Tier I schools means—

(a) A Title I school that has been identified as in improvement, corrective action, or restructuring under section 1116 of the Elementary and Secondary Education Act of 1965, as amended (ESEA) and that is identified by the SEA under paragraph (a)(1) of the definition of Persistently-lowest Achieving School.

(b) An elementary school that is eligible for Title I, Part A funds that—

(1)(i) Has not made adequate yearly progress for at least two consecutive years; or

(ii) Is in the State's lowest quintile of performance based on proficiency rates on the State's assessments under section 1111(b)(3) of the Elementary and Secondary Education Act of 1965, as amended (ESEA) in reading/language arts and mathematics combined; and

(2) Is no higher achieving than the highest-achieving school identified by the SEA under paragraph (a)(1)(i) of the definition of Persistently-lowest Achieving School.

Tier II schools means—

(a) A secondary school that is eligible for, but does not receive, Title I, Part A funds and is identified by the State educational agency (SEA) under paragraph (a)(2) of the definition of Persistently-lowest Achieving Schools.

(b) A secondary school that is eligible for Title I, Part A funds that—

(1)(i) Has not made adequate yearly progress for at least two consecutive years; or

(ii) Is in the State's lowest quintile of performance based on proficiency rates on the State's assessments under section 1111(b)(3) of the Elementary and Secondary Education Act of 1965, as amended (ESEA), in reading/language arts and mathematics combined; and

(2)(i) Is no higher achieving than the highest-achieving school identified by the SEA under paragraph (a)(2)(i) of the definition of Persistently-lowest Achieving School; or

(ii) Is a high school that has had a graduation rate, as defined in 34 CFR 200.19(b), that is less than 60 percent over a number of years.

Tiered behavioral supports means a continuum of increasingly intensive and evidence-based social, emotional, and behavioral supports, including a framework of universal strategies for students, school staff, and relevant external partners to promote positive behavior and data-based strategies to match more intensive supports to individual student needs.

This notice does not preclude us from proposing additional priorities, requirements, definitions, or selection criteria, subject to meeting applicable rulemaking requirements.

Note: This notice does not solicit applications. In any year in which we choose to use one or more of these priorities and definitions, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities and definitions only on a reasoned determination that their benefits justify their costs. In choosing among alternative regulatory approaches, we selected those approaches that maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits, both quantitative and qualitative, of this regulatory action. The potential costs associated with this regulatory action are those resulting from regulatory requirements and those we have determined as necessary for administering the Department's programs and activities.

Discussion of Costs and Benefits

The final priorities and definitions do not impose significant costs on entities that receive assistance through the Department's discretionary grant programs. Additionally, the benefits of implementing the priorities contained in this document outweigh any associated costs because they result in the Department's discretionary grant programs selecting high-quality applications to implement activities that are most likely to have a significant national effect on educational reform and improvement.

Application submission and participation in a discretionary grant program are voluntary. The Secretary believes that the costs imposed on applicants by the final priorities and definitions are to be limited to paperwork burden related to preparing an application for a discretionary grant program that is using one or more of the final priorities and definitions in its competition. Because the costs of carrying out activities will be paid for with program funds, the costs of implementation will not be a burden for any eligible applicants, including small entities.

Regulatory Flexibility Act Certification

For these reasons as well, the Secretary certifies that these final priorities and definitions do not have a significant economic impact on a substantial number of small entities.

Intergovernmental Review: Some of the programs affected by these final priorities and definitions are subject to Executive Order 12372 and the regulations in 34 CFR part 79. One of the objectives of the Executive order is to foster an intergovernmental partnership and a strengthened federalism. The Executive order relies on processes developed by State and local governments for coordination and review of proposed Federal financial assistance.

Accessible Format: Individuals with disabilities can obtain this document in an accessible format (such as braille, large print, audiotape, or compact disc) on request to the program contact person listed under FOR FURTHER INFORMATION CONTACT.

Electronic Access to This Document: The official version of this document is the document published in the Federal Register. Free Internet access to the official edition of the Federal Register and the Code of Federal Regulations is available through the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: December 4, 2014.
Arne Duncan,
Secretary of Education.

[FR Doc. 2014-28911 Filed 12-9-14; 8:45 am]

BILLING CODE 4000-01-P